DEPARTMENT OF EDUCATION

34 CFR Part 75

[Docket ID ED-2021-OPEPD-0054]

Final Priorities and Definitions—Secretary's Supplemental Priorities and Definitions for Discretionary Grants Programs

AGENCY: U.S. Department of Education.

ACTION: Final priorities and definitions.

SUMMARY: In order to support a comprehensive and ambitious education agenda, the Secretary issues six priorities and related definitions for use in currently authorized discretionary grant programs or programs that may be authorized in the future. The Secretary may choose to use an entire priority for a grant program or a particular competition or use one or more of the priority's subparts. These priorities and definitions replace the Supplemental Priorities published in the Federal Register on March 2, 2018, the Opportunity Zones final priority published on November 27, 2019, and the Remote Learning priority published on December 30, 2020. However, if a notice inviting applications (NIA) published before the effective date of this notice of final priorities and definitions included one or more of those priorities, the included priorities apply to that competition.

DATES: These priorities and definitions are effective January 10, 2022.

FOR FURTHER INFORMATION CONTACT: Dr. Nkemjika Ofodile-Carruthers, U.S. Department of Education, 400 Maryland Avenue SW, Room 4W308, Washington, DC 20202. Telephone: (202) 401-4389. Email: Nkemjika.ofodile-carruthers@ed.gov.

SUPPLEMENTARY INFORMATION:

Executive Summary

Purpose of This Regulatory Action: The Secretary has outlined a comprehensive and ambitious education agenda that reflects the Secretary's vision for American education. This vision is based on a fundamental respect for the dignity and potential of every student and their access to educational opportunity. These final priorities are aligned with evidence-based (as defined in this document) and capacity-building approaches to addressing various interconnected policy issues in the Nation's education system. These final priorities and definitions may be used across the Department of Education's (the Department) discretionary grant programs to further the Department's mission, which is “to promote student achievement and preparation for global competitiveness by fostering educational excellence and ensuring equal access.”

Summary of the Major Provisions of This Regulatory Action: Through this regulatory action, we establish six supplemental priorities and associated definitions. Each major provision is discussed in the Public Comment section of this document.

Costs and Benefits: The final priorities and definitions will impose minimal costs on entities that receive assistance through the Department's discretionary grant programs. Application submission and participation in a discretionary grant program are voluntary. The Secretary believes that the costs imposed on applicants by the final priorities are limited to paperwork burden related to preparing an application for a discretionary grant program that is using one or more of the final priorities in its competition. Because the costs of carrying out activities will be paid for with program funds, the costs of implementation will not be a burden for any eligible applicants, including small entities.

We believe that the benefits of this regulatory action outweigh any associated costs because it will result in the submission of a greater number of high-quality discretionary grant applications and supporting activities that reflect the Administration's educational priorities.

Program Authority: 20 U.S.C. 1221e-3.

We published a notice of proposed supplemental priorities and definitions (NPP) in the Federal Register on June 30, 2021 (86 FR 34664). That document contained background information and our reasons for proposing the priorities and definitions.

There are differences between the proposed priorities and definitions and the final priorities and definitions established in this notice of final priorities and definitions (NFP), as discussed in the Analysis of Comments and Changes section in this document.

Public Comment: In response to our invitation in the NPP, 100 parties submitted comments on the proposed priorities and definitions.

Generally, we do not address technical and other minor changes, or suggested changes that the law does not authorize us to make under applicable statutory authority. In addition, we do not address general comments regarding concerns not directly related to the proposed priorities or definitions.

Analysis of Comments and Changes: An analysis of the comments and of any changes in the priorities and definitions since publication of the NPP follows.

General Comments

Comments: Many commenters expressed general support for all the proposed priorities, and one commenter also expressed support for the definitions. We also recognize that it is important to engage broad stakeholders and have incorporated many of the comments throughout the priorities.

Some of these commenters also expressed support in specific areas. For example, two commenters expressed appreciation for the emphasis on the needs of students and educators. A third commenter expressed similar support for the emphasis on the needs of students and added, more broadly, support for the focus on schools and families. Two commenters noted the importance of understanding the impact of the novel coronavirus disease 2019 (COVID-19), with one adding that it is critical to prioritize actions that will increase educational equity and create a more diverse education workforce. Other commenters supported the emphasis the priorities place on specific topic areas relating to, or subgroups of, children. For example, two commenters noted the emphasis these priorities have on students with disabilities. Another commenter noted, along with their support, that they thought it was important to focus Department grant programs on first-generation students from low-income backgrounds. A separate commenter supported the overall emphasis throughout the priorities on early learning, while another commenter expressed overall support for the focus on mental health. Another commenter expressed appreciation for the acknowledgement of the need to address staffing shortages and the use of universal design for learning. This same commenter specifically noted that students with disabilities, particularly students with Down syndrome, will only benefit from each of these priorities if grantees include such students. The commenter further indicated that students with significant cognitive disabilities have been frequently left out of key grant programs.

Other commenters believed that the priorities could have a positive impact on education more broadly. For example, one commenter stated that these priorities are crucial to the immediate and ongoing work of recovery and transformation in our education system to meet the needs of all learners, while another commenter appreciated the thoughtful systems-level approach to equitably distribute resources. Finally, one commenter expressed hope that the priorities bring noticeable change in education.

Discussion: We appreciate the overwhelming support for the priorities and welcome the additional comments and suggestions. We agree with the commenters on the importance of focusing on the critical needs of educators, schools, families, and students, including students with disabilities, including those with significant cognitive disabilities.

Changes: None.

Comments: One commenter requested changes to the background section of the NPP where the Department discussed its intent that, where technology is referenced in the priorities and definition, the technology be accessible to English learners, and to individuals with disabilities in accordance with Section 504 of the Rehabilitation Act of 1973 and Title II of the Americans with Disabilities Act, as applicable. The commenter asked that we also specify that limited English proficient parents should have meaningful access to information about technology, including technology support and information on data collection, storage, and sharing. The commenter also requested that instructional technology be developed with English learners in mind and that teachers know how to select appropriate and high-quality digital tools that can be adapted for English learner instructional strategies in a virtual environment. For example, instructional technology could include embedded language support features and allow for verbal peer-to-peer interaction.

Discussion: We appreciate the recommendation for changes to the background to include supports for limited English proficient parents and to ensure that instructional technology is developed with English learners in mind. We agree that Priority 1(e) should address this concern as technology supported learning experienced must be inclusive of English learners. We do not include a background section in the NFP, nor is the background section considered part of the final priorities.

Changes: In priority 1(e), we have included language to specify that access to high-quality, technology supported learning experiences be accessible and usable by English learners.

Comments: One commenter recommended that we require grantees to report on their progress in amplifying the voices and experiences of families, providers, and community partners. In addition, the commenter recommended requiring grantees to disaggregate data to the extent possible by race/ethnicity, language, and disability status.

Discussion: We appreciate the comment. Reporting requirements for grant programs are established separately for each grant program based on program requirements. The Secretary's supplemental priorities are not, by design, the place for establishing reporting requirements. For this reason, we are not making any changes in response to this comment.

Changes: None.

Comments: One commenter suggested using the term “early learning and education” instead of “education” throughout the priorities to emphasize the birth through college model. The commenter also suggested using “children and students” instead of “students,” and “Pre-K starting at birth” instead of “K-12.”

Discussion: We agree with the commenter's interest in ensuring that the priorities are inclusive of young learners. We interpret the terms “education” and “students” throughout the priorities to be, in general, inclusive of early learning and children, respectively. Where appropriate, we have specified specific groups of students. Further, “early learning” is defined to include programs that provide early care and education for children from birth to kindergarten entry. Therefore, we decline to make any changes in response to this comment.

Changes: None.

Comments: One commenter stated that prioritizing vulnerable students in underserved school districts should be a top priority for the Department.

Discussion: We agree that prioritizing vulnerable students in underserved school districts is important. The establishment of these priorities is one of many actions the Department is taking to focus on vulnerable students in underserved school districts. The priorities repeatedly reference “underserved students,” and the definition of “underserved students” includes students who may be vulnerable for a variety of reasons.

Changes: None.

Comments: One commenter recommended adding career and technical education centers to the listings of educational settings as these centers are often not included in funding conversations.

Discussion: We thank the commenter for this suggestion and agree that a focus on career and technical education centers should be added to specific priorities to ensure that they are intentionally included in the discussion.

Changes: We have added “career and technical education programs” to subpart (a) of Priority 2, subpart (h)(1)(ii) of Priority 3, and subpart (f) of Priority 4.

Comments: Several commenters suggested adding additional priorities. One commenter suggested a priority focused on improving the effectiveness of principals. Another commenter suggested a science, technology, engineering, and math (STEM) priority. A third commenter proposed a priority to address other factors that impact educational attainment and outcomes, through a whole-child approach to young children's success. A fourth commenter recommended making school diversity its own priority. That commenter also suggested using more explicit language on “school integration” and “desegregation” throughout the priorities, in addition to the U.S. Supreme Court's terminology—“school diversity” and “reduction of racial isolation.”

Discussion: We appreciate these thoughtful recommendations for additional priorities. The priorities, as proposed, address each of these topics. Priority 2 focuses on STEM by including a subpart that calls attention to the inequities related to access to and success in rigorous and engaging approaches to STEM coursework. In addition, the Department has funded and continues to fund many projects with a STEM focus.

Regarding a new priority to address other factors that impact educational attainment and outcomes, projects that focus on whole-child strategies would be included under both Priority 1 and Priority 4. Priority 1 supports projects that address the impacts of COVID-19 by providing resources and supports to meet the basic health and safety needs of students and educators. Priority 4 is for projects designed specifically to improve students' social, emotional, academic, and career development.

Finally, school diversity is addressed specifically in Priority 2. Overall, the Department is committed to equity and adequacy of resources for underserved students. One way we think this can be accomplished is by examining the sources of inequities. For this reason, proposed subpart (b)(13) of Priority 2 supports developing or implementing specific policies or practices to address racial and socioeconomic diversity by improving data collection methods to identify trends in and contributors to stratification and barriers to diversity.

Given that each of the additional proposed topics are addressed in the existing priorities, including improving the effectiveness of principals and the use of school integration and desegregation, we are not making any changes in response to these comments.

Changes: None.

Comments: Several commenters made suggestions regarding the use of the term “educator.” These commenters highlighted the lack of clarity on who the term includes, with many concerned it might be construed to mean only teachers, pointing out inconsistencies in how the term was used in the proposed priorities. For example, if “educators” is meant to include persons who are not teachers, then the commenters argued that subpart (f)(3) of Priority 3, which uses the phrase “educator and school leader,” is confusing. As such, many commenters recommended including principals and other school leaders in addition to educators to highlight the important role school leaders play and noted that this would be consistent with the Elementary and Secondary Education Act (ESEA). Additionally, other commenters recommended including early learning educators among the educators addressed in Priority 3, also citing consistency with the ESEA. One commenter requested that specialized instructional support personnel be included, and another commenter noted the importance of school psychologists. Lastly, a couple of commenters requested that when discussing diverse educators, Priority 3 specifically mention educators with disabilities, emphasizing the importance of students with disabilities seeing successful educators with disabilities and the abilities of those diverse educators.

Discussion: We appreciate that the use of “educator” could cause confusion regarding who is included under this term. Our use of “educator” is meant to include all professionals working to educate students and impact student learning, recognizing that all these professionals play important roles. Additionally, the term “diverse educators” is intended to include educators from all backgrounds that are underrepresented in the workforce, including educators with disabilities. As such, we are adding a definition of “educator” to explain more clearly what is meant by the term and to be inclusive of the groups that commenters noted, and we are clarifying usage of “educator” throughout the priorities where it is unclear.

Changes: We have added a definition of “educator,” which includes early childhood educators, teachers, principals and other school leaders, specialized instructional support personnel (e.g., school psychologists, counselors, school social workers), paraprofessionals, and faculty. Additionally, in Priority 2, subpart (a)(2),(b)(2)-(4), and throughout Priority 3, subpart (b), we have replaced the references to “teachers” with references to “educators” for consistency. In proposed subpart (f)(3) of Priority 3, we have removed “and school leaders.”

Although the Department did not propose definitions of “teacher” and “principal” in the NPP, we have revised the final definitions, based on this and other comments, to include a definition of “educator.” While it was always our intent to include early learning professionals within the broader group of educators, we have added a definition of “educator” to the final definitions that includes “early learning educator.”

Changes: We have added “early learning educator” to the new definition of “educator.”

Comments: One commenter suggested the Department define Pre-K students as a separate subgroup with specific needs outside of K-12 education. More specifically, the commenter suggested that we clarify that each of the final priorities would support projects in the early learning context, to the extent applicable.

Discussion: We appreciate this comment and agree with it, in part, as we agree with supporting projects that address early learning but do not think we need a separate subgroup definition. Priorities 2, 3, 4, and 6 share a focus on underserved students and the definition of “underserved student” includes children in early learning environments as one of the groups of learners upon which a project may focus.

Changes: We are revising the introductory paragraph within priorities 2, 3, 4, and 6 to include that the focus of the projects should include underserved students.

Comments: One commenter asked that, through the priorities, we specifically promote certificate programs, such as programs that award licensed practical nursing or cybersecurity certificates, which could benefit students with disabilities who have individualized educational programs.

Discussion: We thank the commenter for the comment. We agree that certificate programs can provide important career pathways to students, including students with disabilities. Priority 5 addresses the types of programs described by the commenter and encourages projects designed to increase postsecondary access, affordability, success, and completion for underserved students, which may include under subpart (j) projects that connect children or students with disabilities, adults with disabilities, and disconnected youth to resources designed to improve independent living and the achievement of employment outcomes. Accordingly, no change is needed, as Priority 5 would allow the projects proposed by the commenter.

Changes: None.

Comments: One commenter urged the Department to include student and educator voices in each of the topic areas to engage students in the overall education process.

Discussion: We agree that students and educators, as applicable, should be included in the design, development, and implementation of projects proposed under these priorities. However, where appropriate to the program and the competition, the Department may include in the NIA the selection criteria in 34 CFR 75.210, through which a proposed project will be evaluated on the extent to which the proposed project encourages participant or beneficiary involvement and to which the services to be provided by the proposed project involve the collaboration of appropriate partners for maximizing the effectiveness of project services. We think this approach is a more tailored way to promote involvement by the relevant affected stakeholders, which may include students and educators, on a program-by-program basis. Therefore, we have not made any changes in response to this comment.

Changes: None.

Comments: Five commenters suggested revising the introductory note about accessibility of technology to ensure it references all applicable Federal law, including the Individuals with Disabilities Education Act (IDEA) and the ESEA. The commenters also suggested adding language to reinforce the need for technology to be universally designed and fully accessible, as well as to be interoperable with assistive technology. A sixth commenter stated that the technology should be usable by English learners and individuals with disabilities.

Discussion: We appreciate the recommendation for changes to the background to ensure it is consistent with all Federal requirements and for the suggested improvements. We do not include a background section in the NFP, nor is the background section considered part of the final priorities. Therefore, we are not making any changes in response to these comments.

Changes: None.

Comments: Two commenters suggested addressing rural education in the priorities. One urged caution in adding supplemental priorities to rural-serving programs without funding increases; the other recommended maintaining the priority related to rural applicants in the Administrative Priorities for Discretionary Grant Programs published in the Federal Register on March 9, 2020 (85 FR 13640) and requested that additional attention be given to rural education under each supplemental priority. These commenters also provided suggestions related to funding for rural education. One recommended providing additional funding to address the needs of rural education, particularly educator compensation and training; the other commenter requested the Department work to ensure that all districts have equal opportunities to apply for and receive funding and noted concerns that some school districts do not apply for discretionary grants because they believe the Department favors the largest school districts.

Discussion: We thank the commenters for their suggestions. In preparing for each program's grant competition, the Department takes care in deciding which priorities to apply and when, considering, in part, eligible entities' capacity for addressing the priorities. Nevertheless, we appreciate the commenter's caution about the use of supplemental priorities for rural-serving programs. Regarding the administrative priority for rural applicants (85 FR 13640), this priority remains in effect and will be available for use by the Department, as appropriate.

Regarding the comment about additional funding for rural education, we consider these priorities to be one mechanism for generating additional funds for rural-serving programs. Rural-serving programs may apply for the Department's discretionary grants to which these priorities will apply. Finally, while the comment about ensuring that all districts have equal opportunities to apply for and receive funding is beyond the scope of the supplemental priorities, the Department's procedures for awarding discretionary grants include a variety of safeguards and technical assistance to ensure fair grant competitions. For example, for almost all the Department's grant competitions, program staff recruit application reviewers from outside the Federal Government. And, while Department staff screen applications to ensure that they meet all program requirements, the non-Federal reviewers read and independently score the applications assigned to them.

Changes: None.

Priority 1—Addressing the Impact of COVID-19 on Students, Educators, and Faculty

Comments: Several commenters expressed their support for Priority 1, its focus on the effects of the COVID-19 pandemic, and recognition of the challenges underserved students experienced before the pandemic. Commenters especially appreciated the focus on students' social, emotional, mental health, and academic needs; technology access for students and educators and how to best address the “digital divide”; using an evidence base; and the background discussion of the priority that emphasized afterschool and summer programs, focus on the whole child, and community and family engagement. One commenter appreciated the alignment of this priority with the needs of community colleges. In its support for the priority, one commenter recommended prioritizing underserved students, while another commenter expressed that they would like to see a focus on all age groups from infants to young adults, as well as educators and families. Another commenter recommended prioritizing Historically Black Colleges and Universities (HBCUs) to provide resources for HBCUs to address the needs of their students.

Discussion: We appreciate the support for the priority and that commenters found strong connections between the priority and the needs they are seeing in the field. Regarding prioritizing underserved students, Priority 1 focused on “the students most impacted by the pandemic,” but we believe that, as we did in the other priorities, we should include a focus on underserved students. We also define “underserved students” to include age groups from infants to young adults, and the educators and families that support those students. We also agree that it is important that all institutions, especially institutions that work directly with underserved students, have the resources needed to address Priority 1 to address the needs of and fully support their students who are largely underserved populations impacted by the pandemic.

Changes: We have added “with a focus on underserved students” to the lead-in paragraph of Priority 1. Additionally, to address this comment, in Priority 2, we have added new subpart (b) that allows the Department to prioritize community colleges, HBCUs, Tribal Colleges and Universities (TCUs), or Minority-Serving Institutions (MSIs). Accordingly, proposed subpart (b) of Priority 2 has been redesignated as final subpart (a)(2).

Comments: A couple of commenters proposed that Priority 1 be used as a competitive preference priority, with one commenter recommending that this priority be used as a competitive preference priority in the FY 2022 Charter School Programs (CSP) competitions.

Discussion: These priorities are intended to be a menu of options for use in our discretionary grant programs. The Department may choose which, if any, of the priorities or subparts are appropriate for a particular program competition, as well as the appropriate level of funding and selection criteria. If the Department chooses to use a supplemental priority, it also will designate in the notice inviting applications whether the priority will be used as an absolute, competitive preference, or invitational priority in the grant competition.

Changes: None.

Comments: One commenter recommended the addition of a new subpart to Priority 1 focused on comprehensive plans to address literacy gaps from the pandemic and remote learning.

Discussion: We agree that the pandemic has had significant impacts on learning, including on literacy development. Although we appreciate the commenter's recommendations for how this priority could be expanded to include a focus on literacy, we want to clarify that the priority does not prohibit the projects described by the commenter, and that there are already elements that support such models, for example subpart 1(g). Applicants have the discretion to determine what approach or intervention will best address the priority and meet the needs of the targeted population.

Changes: None.

Comments: Several commenters encouraged applicants to consider the views of students in addressing the issues under the priority, especially focusing on student engagement in decision-making and community asset-mapping. Another commenter suggested strengthening the priority by including family impacts from the pandemic, not just student- and educator-specific impacts, including opportunities to address the needs of families in addition to needs of students' and educators.

Discussion: We agree that it is important to be able to reengage and support student learning to address COVID-19 impacts, and that students and educators, as applicable should be included in the design, development and implementation of projects proposed under these priorities. Student engagement and voice can be a part of projects addressing this priority as proposed, and we believe that applicants are best suited to determine how to engage students to address the priority. Likewise, we recognize that the pandemic has had an impact on everyone, not only students and educators, but their families as well. We believe that addressing students' needs can include addressing the needs of the families that support those students but agree with the commenter's recommendation that the priority should explicitly refer to reengaging families.

Changes: We have added “and their families” at the end of subpart (a) of Priority 1.

Comments: Though Priority 1 is focused on addressing the impacts of COVID-19, one commenter encouraged the Department not to use this priority to support “vouchers,” citing the Education Stabilization Fund-Rethink K12 Education Models, which established microgrants for parents. The commenter noted the importance of this priority focusing on public school students.

Discussion: We recognize that across the various COVID-19 relief programs established by Congress, there have been different requirements, priorities, and eligible applicants. This priority is designed to address the students most impacted by the pandemic, with a focus on underserved students. The priority does not include any reference to “vouchers”; eligibility for a program, including whom a program may serve, is determined by a program's statutory authority.

Changes: None.

Comments: Several commenters recommended that Priority 1 specifically address the needs of early learning programs, and recommended changes to the background section to reference these needs and the mental health needs of children in early learning programs related to the pandemic.

Discussion: We appreciate the recommendation for additions to the background for the priority to discuss early learning. We do not include background sections for priorities in the NFP, nor are the background sections considered part of the final priorities. Therefore, we are not making any changes in response to this comment. Regarding focusing on the mental health needs for children in early learning, since the proposed priority refers to “underserved students,” and the definition of “underserved students” includes “children in early learning environments,” the proposed priority's focus on students' mental health needs includes students in early learning programs. Accordingly, changes to the priority are not necessary.

Changes: None.

Comments: Multiple commenters supported subpart (a) of Priority 1, especially the emphasis on community asset-mapping, with one commenter recommending using U.S. Census data to look more specifically at household disparities from the pandemic. Additionally, commenters noted that this priority will help supplement the other funding States are receiving and will help minimize burden on educators, students, and families. While supportive of the priority, a few commenters recommended additions to this subpart. One commenter noted the significant impacts of the pandemic on English learners and requested that this subpart address learning and language needs of these students. This commenter also recommended a focus on reengaging “virtual drop-out” students who disengaged because of remote learning. Other commenters recommended that we add language to the priority to ensure that State and district needs are assessed and measured, looking not only at academic indicators but also at student well-being, school culture, and broader indicators of reengagement, with one commenter suggesting a focus on reengagement at the early learning level. Given the varying impacts of the pandemic on students, one commenter proposed additional language focused on assessing the needs of specific subgroups of students, including children or students with disabilities, and the potential extension of eligibility for services for students with disabilities based on this assessment of needs. Finally, one commenter recommended that while full community engagement in community asset-mapping and the data generated are important, the asset-mapping does not need to be perfect and that funding under the priority be used to serve as many students as possible.

Discussion: We appreciate the comments supporting this subpart and the importance of community asset-mapping. We agree that there are a range of data points that can be used to assess needs, including U.S. Census data, State and local data, and data from community partners. We also agree that reengagement of all groups of students is important, including students attending school in-person and those participating in remote learning. The priority is focused on the students most impacted by the pandemic, and we agree that these include English learners and children or students with disabilities as discussed by commenters. Given the focus on students most affected by the pandemic, we do not think additional language identifying specific groups of students is necessary, but we agree that ensuring that the assessment considers subgroups of students is valuable. As a result, we have added language to clarify that the assessment may include an assessment of subgroups of students. We agree that States and districts need to work with students with disabilities and their families but do not think additional language in the priority is necessary for this work to be carried out. Lastly, the intent of the subpart is to reengage students and address the impacts of COVID-19, and applicants have the discretion to determine what approach or intervention will best address the priority and meet the needs of the targeted population.

Changes: We have clarified in subpart (a) of Priority 1 that any assessment of student disengagement may include a focus on subgroups of students.

Comments: Multiple commenters supported subpart (b) of Priority 1 and appreciated the focus on health and safety needs, especially the inclusion of educators along with students. One commenter recommended a focus on underserved communities, given the impact of the pandemic on those communities. Another commenter encouraged inter-agency collaboration to address health and safety needs, including collaboration with State departments of education, food and nutrition agencies, public health departments, and other providers.

Discussion: We appreciate the comments in support of subpart (b) and agree that health and safety needs of both students and educators need to continually be assessed and addressed. We also agree that collaboration with relevant agencies and providers can help to successfully provide for the health and safety needs of students and educators, and such collaboration would be permitted under this subpart.

This priority is focused on those most impacted by the pandemic, and as noted above, we have added “underserved students” to the lead-in paragraph of Priority 1 to focus on those groups. In addition, Priority 6 addresses inter-agency collaboration and could be used in conjunction with this priority, so we do not think any changes to the subpart are necessary.

Changes: None.

Comments: A few commenters expressed support for subpart (c) of Priority 1 and suggested that mental health be maintained in this subpart. One commenter recommended that funding be used to address shortages in mental health professionals and that the subpart include language allowing the use of multi-tiered systems of supports to address the social and emotional needs of students. One commenter requested that the approaches to addressing these needs be culturally and linguistically responsive. Another commenter recommended a new subpart focused on community engagement and the importance of partnerships to support emotional, physical and mental health, and academic needs.

Discussion: We appreciate the commenters' support for this subpart of the priority and agree that addressing students' mental health needs is especially important given the impacts on mental health caused by the pandemic. Addressing mental health needs includes ensuring the appropriate mental health professionals are involved. We also recognize the potentially positive impacts of well-designed, well-executed multi-tiered systems of supports, which we include in Priority 4. Such an approach to addressing mental health needs would be permitted under this subpart, so we do not think additional language is necessary in this subpart of Priority 1. We recognize the importance of addressing students' needs in culturally and linguistically inclusive ways, recognizing and valuing all students' identities, cultures, and potential, and are adding language to address this issue similar to that used in other priorities. Lastly, we agree that community engagement and partnerships can be beneficial to addressing students' social, emotional, mental health, and academic needs. Applicants have the discretion to determine what approach or intervention, including necessary partnerships, will best address the priority and meet the needs of the targeted population. In addition, Priority 6 addresses inter-agency collaboration and could be used in conjunction with this priority.

Changes: We have specified in subpart (c) of Priority 1 that project approaches must be inclusive with regard to race, ethnicity, culture, language, and disability status.

Comments: Multiple commenters supported subpart (d) of Priority 1. One commenter recommended that this subpart emphasize the recruitment and retention of educators and educator preparation programs. Another commenter recommended that the subpart reference a specific report on teachers of color and include a focus on educators and staff of color.

Discussion: We appreciate support for this subpart. We do not think the suggested additions to subpart (d) are necessary because Priority 3—Supporting a Diverse Educator Workforce and Professional Growth to Strengthen Student Learning—focuses on educator preparation, recruitment, and retention, as well as educator diversity and the needs of diverse educators. Applicants have the discretion to determine what approach or intervention will best address the priority and meet the needs of the targeted population, which may include specific groups of educators most impacted by COVID-19. Lastly, we do not cite specific reports in the text of the priorities and therefore decline to include the suggested references.

Changes: None.

Comments: Multiple commenters noted their appreciation for subpart (e) of Priority 1 and the Department's recognition that those most impacted by the pandemic often have significant technology needs. Several commenters made recommendations for additional language related to technology for children or students with disabilities to ensure the technology complies with laws, such as the Children's Online Privacy Protection Act (COPPA), and is “accessible,” “useable,” and “interoperable.” One commenter requested that district and school administrators ensure that any future technology schools and districts obtain is accessible for children or students with disabilities. Commenters recommended that English learners also be addressed in this subpart, noting that English learners similarly have unique needs. One commenter recommended that this subpart also ensure that families understand the technology being used. A couple of commenters suggested that the subpart require that the professional development educators receive is “collaborative” and “sustained,” and another commenter recommended that coaching be included along with professional development. Another commenter requested changes to the background section of the NPP where the Department discussed its intent that, where technology is referenced in the priorities and definition, the technology be accessible to English learners and to individuals with disabilities in accordance with Section 504 of the Rehabilitation Act of 1973 and Title II of the Americans with Disabilities Act, as applicable. Lastly, one commenter suggested that the subpart include language regarding the continued use of remote learning and service delivery, especially in the case of school psychologists.

Discussion: We agree with commenters that technology access continues to be a barrier for many students, and we share commenters' concern about accessibility for all students, including children or students with disabilities and English learners. To address this issue, we have added language to this subpart to ensure that technology meets the accessibility needs of children or students with disabilities, and to also clarify that technology must support English learners. We do not think it is necessary to add language regarding future technology purchases by districts and schools because the subpart already requires that technology be accessible. Regarding professional development, we agree that professional development may benefit from being collaborative and sustained; however, the degree to which it need to be collaborative and sustained may depend on the type of technology and the educator's level of comfort and experience. As to maintaining remote learning and service delivery, applicants have the discretion to determine what approach or intervention will best address the priority and meet the needs of the targeted population.

Changes: We have revised subpart (e) of Priority 1 to provide that technology-supported learning experiences must be useable and interoperable after in addition to accessible by children or students with disabilities, as well as English learners. We have also provided that related professional development should be sustained and collaborative, as appropriate.

Comments: One commenter suggested including universal design for learning in subpart (f) of Priority 1 as an example of an evidence-based intervention.

Discussion: We thank the commenter for the suggestion and agree that universal design for learning is an example of an evidence-based intervention. We do not believe that it needs to be specifically mentioned in this subpart for a prospective applicant to propose to use it and note that it is already included in the definitions.

Changes: None.

Comments: One commenter suggested decoupling personalized learning from extended learning time and technology as both can enhance learning, however, personalized learning is not dependent on extended learning time or technology. The commenter stated that applicants should enable evidence-based interventions, by leveraging technology where appropriate, to support personalized in-person student learning as well as evidence-based supplemental activities and, where possible, to increase parent and community engagement.

Discussion: We want the current language of the subpart to allow for personalized learning and extended learning time and technology, however, would agree that there are also other evidence-based interventions that could be used by potential grantees. We decline to make further changes to the language.

Changes: None.

Comments: One commenter noted that Priority 1 does not clearly include afterschool and summer learning options, and suggested splitting subpart (f) of Priority 1 into two subparts to highlight the importance of afterschool and summer learning programs. Specifically, the commenter proposed that subpart (f) refer to the use of technology to enable evidence-based interventions to support personalized in-person student learning; and that we create a new subpart (g) focused on evidence-based supplemental activities that extend learning time and increase student engagement and, where possible, parent engagement. The commenter also recommended that the proposed subpart (g) contain examples of activities that extend learning time, such as comprehensive afterschool and summer programs and work with community partners.

Discussion: We appreciate the commenter's suggestion and agree that afterschool and summer learning programs are important and should be explicitly mentioned. We have not adopted the commenter's suggestion to split subpart (f) into two subparts but modified the current subpart (f) to include comprehensive afterschool and summer learning and enrichment programs as examples of supplemental activities.

Changes: We have added in subpart (f) of Priority 1 comprehensive afterschool and summer learning and enrichment programs as examples of supplemental activities that extend learning time and increase student and parent engagement.

Comments: One commenter suggested that the Department consider leveraging technology for strategies beyond traditional curriculum and instruction, to include work-based learning opportunities. The commenter noted that such strategies could expand opportunities for work-based learning and employer engagement, while ensuring equitable access to students of diverse backgrounds.

Discussion: The requirement to use evidence-based supplemental activities do not preclude an applicant from proposing to use innovative strategies for work-based learning. Accordingly, we do not believe that changes are needed to subpart (f) to allow the activities proposed by the commenter. Other priorities reference career and technical education and work-based learning, and could be used in combination with this priority.

Changes: None.

Comments: One commenter suggested removing “where possible” from subpart (f) of Priority 1. The commenter advised that family engagement should be a top priority and made possible through all means. The commenter asked that we require that parents have access to devices, connectivity, and training in the use of the school's technology.

Discussion: We appreciate the comment and agree that family engagement is a top priority. We included “parent engagement” in this priority to signal its importance, however, we realize that there may be limited instances where parental engagement may not be necessary and have included the “where appropriate” in recognition of those instances. Additionally, we will not include the requirement for access to devices as this may create additional burden for school systems who are at a minimum trying to ensure that their students all have access.

Changes: None.

Comments: One commenter requested that we use subpart (g) of Priority 1 to encourage States and districts to develop strategies related to accelerated learning, but another commenter expressed concerns about a lack of information on the effectiveness of certain accelerated learning approaches, especially for children or students with disabilities, and how retention and special education eligibility are being used in relation to lost instructional time. One commenter suggested that we add language related to professional development for educators to address lost instructional time. Another commenter recommended adding language related to career development and readiness.

Discussion: We recognize that there are many different instructional approaches and supports to accelerate learning, and this priority is designed to support a variety of approaches to meet the needs of those most impacted by the pandemic, including children or students with disabilities. We carefully consider when and how to use any of the supplemental priorities, and in instances where we may use this priority and subpart (g), applicants will have the discretion to determine what approach or intervention will best address the priority and meet the needs of the targeted population. We agree that professional development is an important component in successful use of instructional approaches and supports to accelerate learning and think that support warrants adding language to the subpart. Lastly, given that this subpart is focused on accelerating learning, we do not think it necessary to add language related to career readiness.

Changes: We have added professional development, coaching, and ongoing support for educators as examples of approaches and supports under subpart (g) of Priority 1.

Comments: Multiple commenters proposed changes to subpart (h) of Priority 1 to expressly allow for a focus on children or students with disabilities, other credit-bearing courses not specifically addressed, and adult learners. A couple of commenters recommended including non-credit-bearing coursework for comprehensive transition programs for children or students with disabilities. Another commenter recommended that dual enrollment and early college programs be referenced in the subpart. Regarding adult learning, one commenter recommended adding a reference to advancing the careers and skills for adults, and another suggested the addition of a reference to adult learning after postsecondary education.

Discussion: We appreciate the comments on subpart (h) of Priority 1, as commenters seek to ensure all individuals are reflected in a discussion of postsecondary education or training programs. This priority is focused on supporting all students in earning a recognized postsecondary credential, prioritizing credit-bearing coursework, therefore we decline to include the addition of non-credit bearing coursework. We strongly support and encourage dual enrollment and early college programs and because such programs would be permitted under the subpart, we do not think it is necessary to add a specific reference to these programs. As to adult learners, we recognize the importance of lifelong learners and agree that proposed projects supporting these types of programs or approaches would be permitted under this subpart, and no further revisions are necessary. We are adding express reference to such programs in this subpart to underscore our interest in promoting their use.

Changes: None.

Priority 2—Promoting Equity in Student Access to Educational Resources, Opportunities, and Welcoming Environments

Comments: Several commenters expressed their general support for Priority 2 and made additional comments. One commenter specifically noted the commitment to equity and strong education regardless of background expressed through the priority, as well as the importance of equitable access to meaningful summer learning opportunities. Some commenters, while expressing their support, also urged the Department to maintain its focus on student-centered and project-based learning and stated that deeply engaging families is essential to help ensure equitable access to resources. Another commenter appreciated the inclusion of out-of-school-time settings as one of the eight educational settings listed in the priority. Several commenters appreciated the focus on parent engagement. Another commenter supported continuing existing efforts to designate resources for evidence-based, school-wide policies and practices that reduce bullying and harassment of and, discrimination against, all students. Another commenter supported new measures of student discipline to ensure more equity and end the school-to-prison pipeline. An additional commenter noted the value of project-based learning for improving academic outcomes and the importance of teacher development that includes demonstration and rehearsal activities for ensuring equitable participation in classrooms. One commenter requested that the Department increase the frequency of the Civil Rights Data Collection (CRDC) to ensure equity. A commenter agreed that equitable, systemic, and strategic early college credit is essential to driving student success in secondary and postsecondary education and beyond. Multiple commenters expressed support for all subparts of the priority. Several commenters expressed strong support for subpart (b) with specific support for the focus on identifying and remedying inequities in educational opportunities and toward making educational opportunities equal, equitable, and accessible. Another commenter stated that subpart (b) will help to increase equity by ensuring more students have access to well-prepared, effective, and diverse educators. Another commenter expressed support for equity in student access to educational resources. One commenter fully supported the Department's prioritization of community and family engagement while designing and administering discretionary grant programs. A final commenter expressed support for success in critical and high-need fields to address the systemic practices that have contributed to inequities.

Discussion: We appreciate all the commenters' support for Priority 2. We think that, overall, the priority allows flexibility for applicants to propose evidence-based, capacity-building, and systems-level approaches designed to effect long-term change systemically and systematically for Department stakeholders. Although it is beyond the scope of this priority, we also appreciate the commenter's recommendation for enhancing the CRDC and agree that the CRDC is one resource available to identify inequity. Although it is beyond the scope of these priorities, we also recognize that the CRDC includes multiple data points that are currently collected that also capture gaps in educational equity.

Changes: None.

Comments: Multiple commenters made recommendations related to the use of Priority 2, generally. Two commenters proposed that we use this priority as a competitive preference priority and recommended its use in specific grant programs such as Education Innovation and Research, Full-Service Community Schools, and CSP Developer. Another commenter stated that recipients of discretionary grants should be prioritized by demonstrated need, with another providing suggestions on how projects should be funded. One commenter suggested establishing structures to increase student engagement and voice, including student board members and youth-led town halls. The commenter also suggested partnerships with youth to deliver leadership training. The commenter suggested designing processes to ensure equity in access for marginalized students and lastly, the commenter also suggested individualized curriculum delivery and resources to support the self-actualization of students, as well as training educators to utilize restorative justice practices.

Discussion: These priorities, as well as their subparts, are intended to be a menu of options for the Department to use in competitions for discretionary grant programs. The Department may choose which, if any, of the priorities or subparts are appropriate for a particular program competition, as well as the appropriate level of funding and selection criteria. If the Department chooses to use a supplemental priority, it also will decide whether the priority will be used as an absolute, competitive preference, or invitational priority in the grant competition.

We agree that the commenter's proposed tools, such as student-led engagement and partnerships and professional development, could help address inequities and establish, expand, and improve learning environments. The priority is designed to allow for a wide range of projects to advance educational equity and does not prohibit projects that incorporate these approaches. Therefore, we do not think it is necessary to include these specific examples.

Changes: None.

Comments: Regarding Priority 2 generally, one commenter cited retention of principals in schools with high rates of poverty, as well as the lower income and less autonomy in decision-making principals may have, as an issue and proposed adding school leaders to some of the subparts to clarify who is included in the meaning of the term “educator.” One commenter suggested that we clarify that the priority supports high-quality, non-traditional programs that include both accelerated pre-service training and classroom-based clinical training and support, particularly those programs with a track record of success. The commenter disagreed with using the word “fully” to modify “certified educators”; the commenter argued that effective teachers are best identified by their performance in the classroom, not by their background or experience. Another commenter recommended acknowledging suspension and expulsion starting at the preschool years and the inequities in these practices in the background section of this priority and citing preschool school discipline data within the priority. The commenter noted the harmful implications such practices may have on students' well-being and longer-term school success. Another commenter asked that the priority require any State pre-kindergarten enrollment portals to include Head Start and Early Head Start as options, as well as assist with transportation, mental health, and professional development programs. They also suggested that the priority require States to set and meet enrollment targets by income, family status, dual language status, and other criteria with a strong relationship to kindergarten readiness. One commenter suggested the Department consider the resources needed to enhance community capacity to analyze and use data, including funding professional development and intermediary organizations. Another commenter suggested the Department facilitate and support peer-to-peer learning models that generate sustainable, integrated work-based learning models for employers and students.

Discussion: We appreciate the information provided by the commenter about the challenges of retaining principals in schools with high rates of poverty. The definition of “educator” includes principals and other school leaders, so this priority also allows for projects that support principals.

We recognize and appreciate the commenter's concern regarding the focus on fully certified educators in subpart (b). However, we think that all students, particularly underserved students, should have access to educators who are fully prepared on day one as is common practice in many high-performing nations, and who are not teaching, for example, on an emergency or substitute certification. Requiring teachers to meet State standards for full certification is one means of ensuring that all students have access to qualified educators. We agree that the focus on equity in the classroom should begin at the early learning stages. We specifically identify early learning programs as a setting that the Department may select under the priority. We have designed the priority to give applicants flexibility in promoting educational equity. We believe applicants could propose under the priority, without further revision, projects related to high-quality, non-traditional programs that include pre-service classroom-based clinical training and support; suspension and expulsion inequities in early learning settings; improvements to kindergarten readiness programs, including with respect to equitable access and accessibility generally; building capacity with respect to the analysis and use of data; and peer-to-peer work-based learning models. While we fully support Head Start and all avenues to kindergarten readiness, we are unable to make requirements that are not within the scope of the statutory authority for Department programs and therefore have not added the requested language to this priority. We appreciate the commenter's suggestion on how funds should be used. These priorities are intended as a menu of options for use in our discretionary grant programs. The Department may choose which, if any, of the priorities or subparts are appropriate for a particular program competition, as well as the appropriate level of funding and selection criteria. If the Department chooses to use one of these priorities, it will decide whether the priority will be used as an absolute, competitive preference, or invitational priority in the grant competition, as well as the appropriate level of funding and selection criteria.

Changes: None.

Comments: Multiple commenters recommended adding additional educational settings to the list in subpart (a) of Priority 2 that would refer to schools that serve the highest-need students in an effort to support schools enrolling significant populations of students who have previously dropped out or who have a history of trauma, mental health challenges, and severe disengagement; and (2) provide for developing, implementing, and expanding access to programs that provide two-generational support for the whole family, a support that emphasizes education, economic supports, social capital, and health and well-being to create a legacy of economic security that passes from one generation to the next. Additionally, one commenter suggested that we include “home and community” in the list of educational settings in subpart (a). Regarding subpart (a)(6), one commenter recommended a definition for out-of-school-time settings that would explicitly include all kinds of programs that occur during the summer, before and after school, in the evenings, and on weekends; located in school buildings or community settings; managed or operated by schools, community organizations, parks, camps, faith-based organizations and other entities; and serving children and youth in grades K-12. A couple of commenters suggested adding alternative schools and programs and college and career education to the list of educational settings.

Discussion: We appreciate the recommendation to expand the list to include additional educational settings to ensure that more support is provided, and we agree that a focus on these settings is appropriate. Support for serving the highest-need students is captured through the priority's express focus on promoting educational equity and adequacy in resources and opportunity for “underserved students,” which is defined to include, as appropriate to the competition, several different subgroups of students who have high needs. We agree that home and community are important locations that encourage educational development. As we have included out-of-school-time settings in the list of educational settings under subpart (a)(6), which could include both the locations identified, we do not think it necessary to add additional language. We also do not think a definition for this term is needed, as we do not want to limit the context in which out-of-school time settings, such as before- and afterschool programs on a school campus or specialty programs that include enrichment activities, may occur. Applicants have discretion to determine out-of-school locations to meet the needs of their intended beneficiaries. We agree that alternative schools and career and technical education centers may be beneficial to add to the identified list of education settings because of the emphasis these settings put on technical skills and employability as well as academic skills that benefit students by ensuring real world applicability. For this reason, we are expanding the list in subpart (a).

Changes: We have added alternative schools and programs and career and technical education programs to the list of educational settings in subpart (a).

Comments: One commenter urged the Department to add to subpart (b)(1) of Priority 2 an explicit focus on identification of children who are dual language learners. One commenter suggested that we include in subpart (b)(1)(i) a reference to engaging students in human-centered learning experiences. One commenter recommended that we include experiential civics learning so that students can receive exposure to civic engagement outside of the classroom. One commenter agreed with the importance of early college programs in subpart (b)(1)(iii) in preparing students for success and promoting equity. This commenter suggested the use of Federal matching grants to incentivize States to implement early college programs that target first-generation students of color. This commenter also suggested including civics courses that reflect content from social civic engagement.

Discussion: We appreciate the comments on this subpart, as the commenters seek to ensure all individuals are reflected in a discussion of equity. Subpart (b)(9), which specifically mentions improving learning environments for multilanguage learners, addresses dual language learners, and we believe that adding additional language to the priority would be redundant. We agree that it is important to engage students thoroughly as well as utilize multiple tools to do so. Human-centered learning is one method that can be used, but it is not applicable in every learning environment or curriculum, nor is it an exhaustive approach to engagement. We believe that while it is not listed specifically within the subpart, an applicant would not be precluded from proposing a project that includes it. We also agree that real-world application in all content areas is critical, and especially agree that there are benefits to an education that includes civic engagement. However, we do not believe a specific focus on such content is necessary, as applicants could address the preparation for a civic life, and thereby promote the quality of life in their community, in any number of ways; including such language may create an incorrect perception that the priority provides an exhaustive list of approaches.

We appreciate the commenter's acknowledgement of the importance of early college programs and the importance of ensuring that traditionally underserved students have access to higher education. Priority 2 supports projects designed to promote educational equity and adequacy in resources and opportunity for underserved students. “Underserved students” is defined to include, as appropriate, students of color and first-generation postsecondary education students. These priorities, and their subparts, are intended to be a menu of options for our discretionary grant programs. Accordingly, Priority 2 already allows the Department to include, as appropriate to a competition, a focus on improving access to early college programs for students of color and students who are the first in their families to attend a postsecondary institution.

Changes: None.

Comments: One commenter recommended including vocational rehabilitation in final subpart (a)(2)(xii) of Priority 2, along with education and workforce training programs. The commenter asked that we acknowledge in the priorities that a disproportionate percentage of youth in juvenile justice systems have disabilities and that they should receive access to all services to which they are entitled. Another commenter recommended that the Department require schools to consider what policies are needed or what policies should be removed to make it easier for students involved with the criminal justice system to access and succeed in these education or workforce programs. The commenter noted that, in higher education especially, there are still many policies that inhibit students with criminal records from being admitted into postsecondary education and accessing financial aid and housing and that greater educational equity means removing these barriers.

Discussion: We appreciate the recommendation to include vocational rehabilitation and agree that there are equity issues for children or students with disabilities in juvenile justice facilities. We agree with the importance of removing barriers to support equity for students involved with the criminal justice system; however, this priority broadly addresses the educational settings for inclusion of these students as opposed to the specific methods which may vary by program.

Changes: Vocational rehabilitation has been added within final subpart (a)(2)(xii).

Comments: One commenter recommended that the Department consider how college and career pathways and work-based learning can be included in subpart (b)(1)(i) of Priority 2 as one of several student-centered approaches that develops skills and knowledge students need to succeed and encouraged the Department to support communities of practice, at the State and national levels, focused on innovative models for addressing systemic inequities.

Discussion: We appreciate the commenter's recommendation and note that there are several references within this priority and subpart to college and career pathways and work-based learning. For example, proposed subpart (b)(1)(v) (now final subpart (a)(2)(i)(E)) focuses on high-quality career and technical education courses, pathways, and industry-recognized credentials. We also appreciate supporting communities of practice and continually engage with internal and external entities to ensure that inequities are consistently addressed.

Changes: None.

Comments: One commenter recommended the Department consider how subpart (b) of Priority 2 can promote a broader focus on college and career pathways for all students and better align secondary-to-postsecondary pathways strategies. Another commenter expressed the urgent need for STEM curriculum in underserved communities. One commenter suggested that the Department include strategies such as transitional instruction in subpart (b)(1)(iii) to help reduce the need for developmental education at the postsecondary level. The commenter also suggested promoting the senior year of high school as an opportunity to accelerate student progress toward early college credit or college readiness through transitional instruction by, in part, incentivizing automatic acceleration and placement policies. One commenter suggested we include a focus on educator training in subpart (b)(1)(v) to ensure educators possess the pedagogical skills to serve the needs of all students. The commenter stressed the need for a more diverse educator workforce, especially more diverse emergency-licensed teachers who possess bilingual skills, and the commenter believed they should be compensated like educators who receive stipends for special skills outside their regular duties.

Discussion: We appreciate the commenters' recommendations on subpart (b); subpart (b)(1)(v) was included for the purpose of ensuring a broader focus on college and career pathways. We agree that there is an identified need for STEM instruction in underserved communities; accordingly, in proposed subpart (b)(1)(vi) (now final (a)(2)(i)(F)) we provide for a focus on projects addressing the inequities in access to and success in rigorous and engaging approaches to STEM coursework. In addition, the Department previously funded and continues to fund many projects with a STEM focus. We agree that transitional instruction may help reduce the need for developmental education at the postsecondary level and note that proposed subpart (b)(1)(iii) (now final (a)(2)(i)(C)) has a focus on advanced courses and programs, including dual enrollment and early college programs; as a result, we believe that including additional language is unnecessary. We also agree that there should be a more diverse educator workforce and include that focus in proposed subpart (b)(2), which addresses educators from traditionally underrepresented backgrounds.

Changes: None.

Comments: One commenter recommended that in proposed subpart (b)(2) of Priority 2, the Department focus on non-novice educators, which are educators not in their first or second year of teaching, rather than inexperienced educators more broadly, and proposed additional language to ensure that schools serving underserved students do not have disproportionately high numbers of uncertified, out-of-field, and novice teachers. One commenter proposed clarifying that teachers must be fully certified, consistent with State law, in proposed subparts (b)(2) and (b)(4) to highlight that alternate pathways to certification may be offered under State law and often allow educators from underrepresented demographics to gain certification. The commenter articulated that this change would support fair and equitable treatment under Department competitions for schools subject to different requirements.

Discussion: We agree that there is a need to ensure that there is an equitable distribution of experienced educators and are adding the language suggested by the commenter to clarify the focus of this subpart. We recognize that there are different State requirements for certification and different pathways into the profession. The requirements for certification are determined by the State, and, therefore, in each place where we refer to certification, we are referring to certification under State law regardless of pathway into the profession.

Changes: We have added language to proposed subpart (b)(2) to clarify that a project's objective under this subpart should be to ensure that underserved students are not taught at disproportionately higher rates by uncertified, out-of-field, and new teachers compared to their peers.

Comments: One commenter recommended revising proposed subpart (b)(4) of Priority 2 to emphasize the need to support and retain teachers in the field of special education given the recent declines in teachers entering and staying within this field.

Discussion: We agree that it is important to promote educational equity and adequacy in resources and opportunity in special education. Children or students with disabilities are an identified subgroup under the definition of “underserved student.” Furthermore, subparts (b)(3) and (b)(4) reference high-need fields, which may include special education educators. Accordingly, projects to promote equity in special education would be permitted under these subparts.

Changes: None.

Comments: One commenter recommended adding the following specific programs to subpart (b)(5): Gender Spectrum's Gender-Inclusive Environment Training and Programming; National Association of School Psychologists' School Building Transgender and Gender Diverse Readiness Assessment; and the Family Acceptance Project's Training, Consultation and Program Development. Another commenter recommended that we include three specific programs in subpart (b)(5): Gay-Straight Alliance Clubs and Gender and Sexuality Alliances, LGBTQ-Specific Anti-Bullying Campaigns and Policies, and LGBTQ-Inclusive Sexual Education, citing the equity issues for lesbian, gay, bisexual, transgender, or queer (LGBTQ) students. Multiple commenters suggested adding “ability” as a category for pedagogical practices in subpart (b)(5) to ensure inclusion from the ability perspective. One commenter suggested modifying subpart (b)(5) to include projects that promote effective behavioral strategies and policies that create supportive school climates in the early learning years; partnering with parents; and providing supports for educators such as mental health consultants and training and technical assistance that help in addressing implicit bias.

Discussion: We appreciate the commenters' identification of specific programs and agree that the work of each could be relevant to Priority 2; however, we do not endorse specific programs within our priorities and do not believe they need to be added because applicants have the discretion to determine what approach or intervention will best address the priority and meet the needs of the targeted population. More generally, we also agree that there are equity issues for lesbian, gay, bisexual, transgender, queer, or intersex (LGBTQI+) students and note that this priority subpart supports projects designed to promote educational equity and adequacy in resources and opportunity for underserved students. In the definition of “underserved students,” LGBTQI+ students are already an identified subgroup.

We agree that inclusive pedagogy should also include children or students with disabilities and are adding “disability status” to the list of included pedagogy. We also appreciate the commenter's suggestion for modification of this subpart to include projects that promote effective behavioral strategies and parent engagement and providing supports for educators such as mental health consultants and training and technical assistance, and believe that these projects, are covered elsewhere in the priorities, such as in Priority 1.

Changes: We are including “disability status,” in subpart (b)(5).

Comments: Two commenters suggested adding language to proposed subpart (b)(6) to specifically increase “independence” and “promote self-determination” in the use of technology to increase student engagement. Another commenter suggested separating proposed subpart (b)(6) into two subparts to emphasize the role out-of-school-time programs can play in supporting student engagement and equity. One commenter recommended adding parent advocacy and parent navigator roles in proposed subpart (b)(6). Another commenter recommended adding work-based learning to proposed subpart (b)(6) so that virtual work-based learning is an option, thereby helping States address the transportation barrier that impacts work-based learning. One commenter expressed support for the inclusion of proposed subpart (b)(6) and encouraged the Department to promote strategic partnerships that foster innovation and allow schools to experiment with different learning models that leverage technology.

Discussion: We appreciate the comments. We believe that a focus on student independence and self-determination in the use of technology is permitted under the priority as written. Because the priority itself includes a focus on out-of-school time as an educational setting, and technology is highlighted in the priority as well, we believe there is already sufficient emphasis in proposed subpart (b)(6) (now final subpart (a)(2)(vi)) on the use of technology in out-of-school time activities. Further, we recognize the importance of parental involvement and believe that parent engagement under final subpart (a)(2)(vi) could include parent advocacy and navigation with the existing language.

We also agree that virtual work-based learning could help address barriers to work-based learning. We believe that projects that promote such learning could already be included within the existing language of student learning or supplemental activities, and thus it is not necessary to include as a standalone focus. Finally, we agree that partnerships provide opportunities to leverage resources to increase a project's effectiveness or its ability to reach more students and that such partnerships would be permitted without changes to the subpart.

Changes: None.

Comments: One commenter suggested we revise proposed subpart (b)(7) to focus on how funds are targeted and specifically to require funding levels to align with students' diverse needs and account for districts' differential access to local revenue given differences in local wealth and income levels.

Discussion: We appreciate the comment. We are clarifying in the subpart (now final subpart (a)(2)(vii)) that approaches to equitable school funding should focus on equitably meeting student needs and the district's capacity to fund K-12 schools.

Changes: We have added language to now final subpart (a)(2)(vii) indicating that approaches to equitable school funding should align funding levels to students' needs and account for districts' differential access to local revenue.

Comments: One commenter urged the Department to clarify in proposed subpart (b)(8) that access to high-quality early learning should be expanded for underserved populations through programs that are racially, ethnically, culturally, and linguistically responsive programs.

Discussion: We agree with the commenter that projects to expand early learning programs should be racially, ethnically, culturally, and linguistically responsive.

Changes: We have clarified in now final subpart (a)(2)(viii) that programs should be inclusive with regard to race, ethnicity, culture, language, and disability status.

Comments: One commenter recommended that in proposed subpart (b)(9) of Priority 2, instead of “multilanguage,” we use the term “multilingual,” which is used in the field.

Discussion: We share the commenters' interest in using language consistent with that used by the field.

Changes: We have replaced “multilanguage” with “multilingual.”

Comments: One commenter suggested we also promote engagement of families under proposed subpart (b)(10) of Priority 2, noting that family engagement opportunities may not be accessible or relevant to those families facing the greatest barriers because they are developed without input from them. Additionally, this commenter suggested adding language specific to “parent leadership initiatives” to provide parents with the opportunities and tools they need to be advocates and impact change on education issues. Another commenter suggested modifying this subpart to include staff and families.

Discussion: We appreciate that there is a need for parents and families to be engaged in decision making and leadership and while we believe that they may be included among “underserved community members,” we agree that specifically including them would provide clarity. We have not added staff, as the appropriate staff are referenced in the prior subparts that refer to educators, which is a defined term that includes a range of school staff.

Changes: We have added a reference to “parents and families” in now final subpart (a)(2)(x).

Comments: One commenter recommended adding a reference to special education to proposed subpart (b)(11) of Priority 2, in recognition that a disproportionate percentage of youth in juvenile justice systems have disabilities and that they should receive access to all services to which they are entitled. Also, regarding subpart (b)(11), one commenter recommended the Department consider that non-credit programs can serve as a segue to college and career pathways for individuals exiting the justice system.

Discussion: We appreciate the recommendation to specifically focus on students with disabilities in the juvenile justice system. We do not think this revision is needed due to the inclusion of juvenile justice settings as a targeted educational setting in proposed subpart (a) and the inclusion of students impacted by the justice system and students with disabilities in the definition of underserved students, from which the Department can select one or more of the student subgroups identified. Additionally, regarding non-credit programs, we considered this approach but have instead focused on supporting all students in earning a recognized postsecondary credential, and therefore prioritize credit-bearing coursework. As a result, we decline to include this language.

Changes: None.

Comments: A commenter requested that, in proposed subpart (b)(13)(ii) of Priority 2, we address within-school diversity and inclusion, such as efforts to end racialized tracking. Another commenter suggested that proposed subpart (b)(13)(ii)(A) require that the ongoing, robust family and community involvement include a diverse group of stakeholders. Another commenter wanted to create a separate priority with a focus of engaging family and community members in their child's education. One commenter urged the Department to add “ethnic” diversity along with “racial” and “socioeconomic” to subpart (b)(13)(iv)) and another commenter recommended adding “ability” to the same subpart. One commenter suggested putting special emphasis on the cross-agency collaboration listed in proposed subpart (b)(13)(ii)(C), specifically with the U.S. Department of Housing and Urban Development (HUD). One commenter recommended in proposed subpart (b)(13)(ii)(E) adding “or referring to charter schools in addition to magnet schools, citing research on the level of diversity in charter schools and the opportunity for charter schools to enroll students across geographic boundaries.”

Discussion: With respect to the request that we expressly promote within-school diversity and inclusion, we think that now final subpart (a)(2)(xiii)(B)(4) of Priority 2 addresses this through language related to an existing public diversity plan or diversity needs assessment. We agree that ethnic diversity and diversity of disability status are important and should be included in proposed subpart (b)(13)(iv), along with racial and socioeconomic diversity. We are modifying proposed subpart (b)(13)(iv) to include approaches that are inclusive with regard to race, ethnicity, culture, language, and disability status. Regarding partnering specifically with HUD, we broadly address cross-agency partnerships in Priority 6 and therefore do not need to include that within this priority. With respect to charter schools, magnets were used as an exemplar and would not preclude an applicant being able to propose a project that addresses the same goals using charter schools.

Changes: We have added language that is inclusive with regard to race, ethnicity, culture, language, and disability status in now final subpart (a)(2)(xiii)(D).

Comments: A few commenters requested that the Department add a subpart (b)(14) to proposed Priority 2, to specifically improve the quality of education programs in Puerto Rico, to further the goal of promoting equity in access to educational resources and opportunities. One commenter recommended the addition of a subpart to prioritize the involvement of proximate voices in all levels of decision making to identify community needs.

Discussion: We appreciate the commenters' desire to include language specific to Puerto Rico, and we agree that furthering the promotion of equity is important. We do not believe it is appropriate to target any particular State or territory as funding from the Department's discretionary grant programs may generally be used within any of the 50 States, the District of Columbia, the Commonwealth of Puerto Rico, Outlying Areas, and the Tribal nations, and eligible applicants under our discretionary grant programs are generally established under a program's statutory authority and, if applicable, regulations. Regarding the request to add a subpart prioritizing proximate involvement to help identify community needs, in proposed subpart (a)(2), we specifically ask for projects designed to examine inequities and increase the number and proportion of educators from traditionally underrepresented backgrounds or the communities they serve with the intention of including more of those voices.

Changes: None.

Priority 3—Supporting a Diverse Educator Workforce and Professional Growth To Strengthen Student Learning

Comments: Several commenters expressed their support for Priority 3 and stated that the priority focused on the full pipeline of educator preparation and growth, as well as promoting a diverse educator workforce. Regarding educator preparation, they supported the preparation of certified teachers. Multiple commenters supported the focus on a diverse educator workforce, especially programs that include comprehensive supports, build an educator workforce from the community, include pipelines for developing educators, align with existing efforts to recruit and support educators, and support student learning. Multiple commenters reiterated the importance of professional development for both new and experienced educators that is job-embedded; culturally responsive; focused on student social, emotional, and academic needs; integrates technology; and includes a focus on students' families and the needs of the community. One commenter favorably noted that some of the areas of professional development outlined in the priority overlap with the work after-school educators do. Lastly, commenters supported the inclusion of universal design for learning. One commenter, though, suggested that we revise subpart (c) to include “accessibility” and “accommodations” in addition to universal design for learning, citing research related to working with children or students with disabilities during educator preparation.

Discussion: We appreciate the commenters' support for the priority and agree on the importance of evidence-based educator preparation programs; credentials, especially in shortage areas; a diverse educator workforce; and professional growth. We do not think it is necessary to add “accessibility” and “accommodations” to subpart (c), as educators can be prepared in these areas in the educator preparation programs, and we think universal design for learning also can incorporate accessibility and accommodations without specifically adding language to the priority.

Changes: None.

Comments: One commenter proposed splitting the priority into two priorities, with the first priority focused on educator preparation and the second priority focused on professional growth and student learning.

Discussion: We recognize that in previous iterations of the Secretary's Supplemental Priorities, the various pieces of the educator pipeline have been addressed in separate priorities. However, as we stated in the background to the NPP, “rather than a priority that is focused solely on educator professional development, the proposed priority addresses the needs of all educators, all aspects of the educator pipeline, and the diversity of and equitable access to those educators. This approach to the priorities provides a vision for systems-level approaches that build capacity for long-term change.” As such, we are retaining Priority 3 as one comprehensive priority.

Changes: None.

Comments: A few commenters expressed the importance of prioritizing HBCUs, TCUs, and MSIs in preparing educators and recommended the Department prioritize these institutions so that they have the necessary resources for their educator preparation programs.

Discussion: We agree that it is important that institutions, especially institutions that prepare a diverse set of educators, have the resources needed for those programs. We think that a focus on these institutions and their resources can be done through Priority 2 in combination with Priority 3.

Changes: None.

Comments: A few commenters proposed that Priority 3 include a recognition of the economic challenges early learning educators face, from loan forgiveness to compensation and benefits. One commenter also noted the inconsistent State requirements for early learning educators, the lack of professional development, and their mental health needs. Another commenter highlighted the shortages of early learning educators.

Discussion: We agree that there are economic challenges faced by early learning educators and recognize the important role early learning educators play in supporting the development of children. While early learning preparation standards are established at the State and local levels, we agree that early learning educators are an integral part of a diverse educator workforce and recognize the value of professional growth to strengthen student learning; however, we do not think any changes to the priority are necessary as we believe the priority is already inclusive of early learning educators.

Changes: None.

Comments: A couple of commenters recommended adding a new subpart to the priority specifically for school leaders to address school climate.

Discussion: We recognize the importance school leaders play in helping to establish school climate. Proposed subpart (b)(1)(vii)(5) of Priority 2 (now final Priority 2 subpart [(a)(2)(v)]) specifically addresses school climate and supportive, positive, and identity-safe education or work-based settings. Therefore, given there is a priority and subpart that specifically address school climate, and the fact that school leaders are included in the definition of “educator” and therefore all references to educators in Priority 3, we do not think a new subpart is necessary.

Changes: None.

Comments: One commenter requested that we ensure that diverse educators prepared under Priority 3 are not segregated, stating that all students benefit from diverse educators. Further, the commenter recommended that in discussing diverse educators, we include language diversity. Another commenter recommended that diversity also include LGBTQI+ educators and alternative credentialing programs to prepare more LGBTQI+ educators.

Discussion: We agree that all students, not just students of color, benefit from having access to diverse educators. We do not think that the priority would result in isolating particular groups of educators; rather, it is intended to diversify the educator workforce more broadly. Additionally, we agree that a diverse educator workforce includes educators with diverse language backgrounds and LGBTQI+ educators, but we do not believe that any additional language in the priority is necessary, nor that including language for alternative credentialing programs for specific groups of educators is needed.

Changes: None.

Comments: One commenter proposed that we add a new subpart in Priority 3 under which grantees would collect, track, and report data on educator diversity and, after examining the data, address disparities in graduation rates, passage rates for certification and licensure exams, successful employment, retention, and more.

Discussion: We agree that an important aspect of the effort to promote diverse educators is understanding and addressing the issues that limit diverse educators from succeeding. As such, we propose adding a new subpart to the priority.

Changes: We added a new final subpart (c) focused on examining and addressing issues related to the success of diverse educators and reordered the remaining subparts of the priority.

Comments: Multiple commenters had recommendations related to the professional development pieces of the priority, specifically proposed subpart (g)(1). The commenter requested adding “evidence-based” in addition to “high-quality” and “job embedded” to describe professional development. Another commenter suggested that the priority emphasize professional development for educators to support children with disabilities and mental health needs. A third commenter suggested that the Department add subparts focused on professional development for “students' breadth of skills” and “whole learner approaches.”

Discussion: We appreciate commenters' recommendations to focus the professional development pieces of this priority and recognize the importance of utilizing the existing evidence base to support the professional development. We can apply an appropriate evidence level established in 34 CFR 75.226, and we think that approach is preferable to adding “evidence-based” as suggested by the commenter in the specified subparts because it will allow the Department to tailor the evidence required to individual programs, as appropriate. We also support professional development designed to address the needs of children with disabilities and students' mental health needs in final subpart (h)(1)(iv) and in Priority 1 (c), and the necessary skills all students need to engage in learning. We think all these aspects of professional development can be covered under the priority as written.

Changes: None.

Comments: A couple of commenters proposed changes to Priority 3 related to educator working conditions, suggesting that it include teacher leadership and a more active role for teachers in decision making in schools and strong inclusion of teacher voice in policies such as student discipline procedures and demands on teachers' time. In addition, one commenter recommended that the priority support projects designed to assess the reasons for teacher turnover so that those issues can be addressed. Another commenter suggested that the priority focus on teacher salaries and alignment of those salaries with the cost of living.

Discussion: We agree that working conditions have a significant impact on the educator workforce. This priority focuses on educators, which includes teachers, and this may include teachers' involvement in school decision making. The priority is also aimed at retaining a diverse educator workforce and addressing turnover will be central to retention. Lastly, proposed subpart (f) (now final subpart (g)) of the priority is specifically about hiring, supporting, and retaining educators, including developing compensation systems. As a result, we believe the priority as written already addresses the suggestions from commenters.

Changes: None.

Comments: One commenter suggested an additional subpart to the priority to incorporate more student engagement in providing feedback on educators and their involvement in assessments, utilizing incentives for performance pay, and mandating specific trainings, such as conflict resolution.

Discussion: We appreciate the commenter raising the importance of student engagement and agree on ensuring student voices are heard. Although we appreciate the commenter's recommendations for how this priority could be expanded, we want to clarify that the priority could allow for projects like those described by the commenter so long as the projects are designed to diversify the educator workforce and support professional growth for educators. Applicants have the discretion to determine what approach or intervention will best address the priority and meet the needs of the targeted population.

Changes: None.

Comments: Multiple commenters provided recommendations related to educator preparation programs and credentialing. Specifically, they recommended we consider highlighting “grow your own” programs that develop educators from the community, dual enrollment programs, and how college and career pathway programs think through supports for students. One commenter suggested adding the subparts under proposed (g)(1) of Priority 3 to subpart (a), arguing that it is important for newly prepared educators to be prepared in these same areas previously listed. Regarding credentialing, a few commenters suggested the Department include “dual certification,” and another commenter requested that the Department include a focus on two specific shortage areas: Dual credit educators and career and technical education educators. Another commenter recommended that subpart (b) include additional language to incentivize the recruitment and retention of certified educators in high-need schools.

Discussion: We agree with the importance of recruiting from the community for future educators as well as other programs that allow educators to balance college and career as they proceed through the preparation program. The priority as written supports these efforts. Applicants have the discretion to determine what approach or intervention will best address the priority and meet the needs of the targeted population. Likewise, there is nothing that precludes educator preparation programs from incorporating the areas discussed in the professional development section of the priority in these educator preparation programs. Regarding the request to identify specific credentialing programs in the priority, we do not think it is necessary to list specific credentials beyond the shortage area language of the priority, as States and districts make determinations, based on local needs, of their shortage areas; however, we do agree that it is important to draw attention to dual certification as it may be used to help address shortage areas. In reviewing the priorities and the usage of “shortage areas” in relation to credentials, we noticed a discrepancy in usage; instead of “shortage areas,” Priority 2 refers to “high-need fields.” To be consistent, we will use “shortage areas” in both priorities. Regarding the comment on high-need schools, we do not think it is necessary to add language regarding educator placement in high-need schools, as proposed subpart (f) (now final subpart (g)) of Priority 3 focuses on building and expanding the educator workforce in districts with high rates of poverty.

Changes: In Priority 3 we are adding “or dual certification” after “certification” to subpart (b) of the priority. In Priority 2, subparts (b)(3) and (b)(4), we are changing “high-need fields” to “shortage areas.”

Comments: Multiple commenters offered recommendations related to financial incentives, supports, and compensation for educators. One commenter requested that we add a focus on expanding, in addition to implementing, loan-forgiveness programs under subpart (f). Another commenter recommended supports for educators related to licensure fees. A third commenter suggested that the priority address the cost of assessment fees for educators who commit to teach in a school district as well as licensure endorsements in leadership, coaching, and mentoring. Another commenter recommended that the term “compensation” include comprehensive benefits packages. Finally, one commenter, while recognizing that the priority focuses on underserved students, recommended we add in proposed subpart (e) (now final subpart (f)) a focus on financial incentives in high-need schools.

Discussion: We appreciate commenters' recognition of the importance that financial incentives and compensation play in attracting and retaining educators. We agree that, along with implementing loan-forgiveness programs, Priority 3 should promote expanding loan-forgiveness programs. We do not agree, though, that subpart (e) should be limited to high-need schools, as diverse educators in all schools could benefit from loan-forgiveness and other programs based on their meeting service obligation requirements. We are aware of the costs associated with licensure and assessment fees and believe comprehensive compensation can include coverage of these fees. In addition, proposed subpart (f)(2) (now final subpart (g)(2)), related to compensation systems, allows for inclusion of licensure endorsements and benefits packages and those applicants have the discretion to determine what compensation approach will best address the priority and meet the needs of the targeted population.

Changes: We have added a reference to expanding loan forgiveness programs to final subpart (f) of the priority.

Comments: Multiple commenters had recommendations for proposed subpart (f) (now final subpart (g)) of Priority 3. Commenters recommended adding charter schools in addition to high-poverty districts in proposed subpart (f), stating that with the hiring autonomy charter schools often have, charter schools that are a part of a local educational agency could be disadvantaged by not specifically being identified in the priority. One commenter also requested that we address, in proposed subpart (f), educator wellness and social and emotional health. Another commenter suggested a new subpart on educator involvement in change initiatives, to help support educator retention through educator engagement.

Discussion: We appreciate the commenters' recognition that the autonomies granted to charter schools include hiring processes and decisions; however, we do not agree that not specifically identifying charter schools would favor any other applicant over charter school within this subpart. As to adding an additional subpart on educator wellness and their social and emotional health, these issues are covered under Priority 1 and do not require a new subpart under Priority 3. We agree that focusing on educator retention through their involvement in change initiatives is important and aligns with the intent of the priority as it is a way to help support and ensure educator engagement and, in turn, improve retention.

Change: We have added a new final subpart (g)(4) on educator involvement in change initiatives which states increasing educator retention by providing opportunities for educators to be involved in the design and implementation of local and district wide initiatives that advance systemic changes.

Comments: A few commenters made recommendations about proposed subpart (f)(3) of Priority 3 related to data systems, with one commenter supporting the subpart and encouraging an emphasis on how well-designed data systems inform student learning and working conditions. Another commenter requested the addition of a subpart focused on data sharing to inform curriculum for early learning education.

Discussion: We agree that using data to inform teaching, learning, and working conditions is important for schools and districts; however, we do not think it is necessary to add a subpart that is focused on data systems for human capital management. Applicants can consider how best to use data to inform applications in response to all the priorities, including priorities focused on COVID-19 and equity, as well as how best to share the data. This would not need to be explicitly included within the priority to allow for multiple methods to be used.

Change: None.

Comments: A few commenters supported proposed subpart (g)(1)(i) of Priority 3 and recommended that the subpart emphasize digital citizenship skills and competencies as well as student mastery of knowledge.

Discussion: We appreciate the support for this subpart and agree that an emphasis on instruction that is engaging, utilizes technology, and develops critical thinking skills is important. While digital citizenship skills and mastery of knowledge are important, this subpart is focused on the instructional component of learning, and we do not think it is necessary to add anything additional to the priority.

Changes: None.

Comments: Multiple commenters supported the list of key transitional stages in proposed subpart (g)(1)(ii) (now final subpart (h)(1)(ii)), with one commenter emphasizing the importance of the transition to work and ensuring that those transitioning to work have the necessary understanding of performance expectations in the workplace. Another commenter recommended adding early learning to the list, noting the importance of the transition from early learning to elementary schools, especially for English learners and children with disabilities.

Discussion: We agree that the successful transition to work requires that students and their families are equipped with the knowledge necessary for this transition, including an understanding of accountability systems. We think this knowledge of how we focus on accountability is embedded in this transition period and does not need to be specifically addressed. We also recognize that the transition from early learning to elementary school is critical, especially for some populations of students, but since the priority is written to support transitioning into the setting included in the list, the transition from early learning to elementary school is covered under elementary school in what is now subpart (h)(1)(ii)(A).

Changes: Added “early learning” to what is now subpart (h)(1)(ii)(A).

Comments: One commenter suggested that proposed subpart (g)(1)(iii) of Priority 3 be expanded to include professional development for English learner specialists and general education educators with the intent of ensuring all educators are prepared to meet the needs of English learners.

Discussion: We agree that all educators should be prepared to meet the needs of English learners; however, given that subpart (h)(1) is focused on professional development, we do not think additional language is needed under (h)(1)(iii)]. The language of what is now (h)(1)(iii), which is unchanged from the proposed language in (g)(1)(iii), addresses professional development to meet the needs of English Learners; because it is worded broadly enough to encompass both specialists and general education teachers, additional language is not needed.

Changes: None.

Comments: Multiple commenters supported proposed subpart (g)(1)(iv) (now final subpart (h)(1)(iv)) of Priority 3 that specifically addresses meeting the needs of children or students with disabilities. In their support of the priority, one commenter recommended ensuring that new educators are made aware of the specific supports and processes in a district so that the educator is better prepared to serve children or students with disabilities. The commenter also recommended that, in meeting the needs of children or students with disabilities, educators should understand disabilities so that issues related to them are not misunderstood and treated as disciplinary issues. One commenter recommended adding language to include universal design for learning and evidence-based practices to the subpart. Another commenter recommended using the term “most significant cognitive disabilities” to align with the ESEA.

Discussion: We agree on the importance of meeting the needs of children or students with disabilities and agree on the importance of utilizing universal design for learning and evidence-based practices. Priority 3 includes universal design for learning in subparts (d) and (e), and Priority 2(a)(2)(i)(A) also incorporates it. We can apply an appropriate evidence level established in 34 CFR 75.226, and we think that approach is preferable to adding “evidence-based” as suggested by the commenter in the specified subparts because it will allow the Department to tailor the evidence required to individual programs, as appropriate. We support the commenter's recommendations that educators be made aware of district supports and processes and that educator preparation include better understanding of disabilities to prevent unnecessary discipline. The proposed priority supports these efforts. Applicants have the discretion to determine what approach or intervention will best address the priority and meet the needs of the targeted population. Lastly, we agree that there should be alignment, where possible, with appropriate statutes and therefore agree that the priority should refer to “students with the most significant cognitive disabilities.”

Changes: We have added “cognitive” after “most significant” in final subpart (h)(1)(iv) of Priority 3.

Comments: Under proposed subpart (g)(1)(v) (now final subpart (h)(1)(v)) of Priority 3, one commenter requested adding “ability” to the list of inclusive pedagogy to ensure that pedagogy also focuses on the needs of children or students with disabilities.

Discussion: We agree that inclusive pedagogy should include children or students with disabilities. To be consistent with other Department regulations with similar language, we are adding “disability status” to the list of inclusive pedagogy.

Changes: We have added “disability status,” to subpart (h)(1)(v).

Comments: One commenter recommended adding “underserved students” to the end of proposed subpart (g)(1)(viii) (now final subpart (h)(1)(viii)) of Priority 3 to focus the work in these classroom environments on this specific population.

Discussion: We agree that an emphasis on underserved students is important. Given the priority itself has a focus on underserved students, we do not think it is necessary to add underserved students to this subpart, as well.

Changes: None.

Comments: A couple of commenters had recommendations specific to assessments under proposed subpart (g)(2) (now final subpart (h)(2)) of Priority 3, including ensuring that assessments are not just one “high-stakes” assessment and that assessments used to gauge work readiness have a broader focus than just career and technical education, including being performance-based, and align with State and industry standards.

Discussion: We appreciate commenters' recognition that assessments should not just focus on end-of-year or other high-stakes assessments and that assessments should also more broadly look at the needs of all students. The proposed priority is not focused on high-stakes assessments alone. As to work readiness, while the subpart refers to career and technical education, these assessments, which are designed to measure student learning, can include other standards, such as State or industry standards. Applicants have the discretion to determine what assessments will best address the priority and meet the needs of the targeted population.

Changes: None.

Priority 4—Meeting Student Social, Emotional, and Academic Needs

Comments: Many commenters expressed support for Priority 4, stating that social and emotional learning is important to overall well-being. Several commenters strongly supported the priority and expressed agreement with the focus on trauma-informed pedagogy.

Discussion: We appreciate the support for this priority and agree with the commenters that meeting social and emotional needs is central to supporting students' overall well-being.

Changes: None.

Comments: Several commenters commended the inclusion of experts and the systemic implementation of evidence-based practices in social and emotional learning. One commenter recommended the addition of the term “evidence-based” to subparts (b)(2), (b)(5), and (h). Another commenter urged the Department to review proposals that include a social and emotional learning component to build on the robust evidence base in the field of social and emotional learning and ensure that the evidence base is high quality. One commenter recommended that the Department focus on implementation of evidence-based practices in addition to the evidence supporting why a practice is effective and noted the need for access to technical assistance around implementation.

Discussion: We agree with the commenters on the importance of building and using evidence in this area. In addition to the use of these priorities, we can apply an appropriate evidence level established in 34 CFR 75.226, and we think that approach is preferable to adding “evidence-based” as suggested by the commenter in the specified subparts because it will allow the Department to tailor the evidence required to individual programs, as appropriate. We agree that the efforts to support implementation of evidence-based practices are critical.

Changes: None.

Comments: Several commenters made suggestions for use of Priority 4 in the Department's competitive grant programs. One commenter expressed support for this priority and encouraged the Department to maintain the focus on improving students' social, emotional, academic, and career development, including through nutritional, mental health, school climate, and other supports. One commenter expressed support for the inclusion of this priority and encouraged the Department to work with the education community to include this priority into Federal programs. Another commenter supported the priority and argued that including this as a competitive preference priority in future grant competitions could help colleges expand these types of programs. Another commenter expressed support for the priority and urged flexibility within ESEA Title II and Title IV formula grant programs to support professional development to address social and emotional learning and evidence-based trauma informed practices. In addition, the commenter urged the Department to provide programmatic and financial resources to help States and districts implement and educate families and communities on trauma-informed and culturally relevant practices.

Discussion: We appreciate the input of these commenters. These priorities are intended to be a menu of options for the Department to use in our discretionary grant programs. As noted earlier, the Department may choose which, if any, of the priorities or subparts are appropriate for a particular program competition, as well as the selection criteria. If the Department chooses to use a supplemental priority, it will decide whether the priority will be used as an absolute, competitive preference, or invitational priority in the grant competitions. As these priorities capture policy areas of general importance for the Department, there are also related efforts to provide technical assistance and guidance related to formula grant programs.

Changes: None.

Comments: One commenter supported the emphasis on social and emotional needs and engagement recommended in Priority 4 and recommended incorporating these aspects of education into K-12 school accountability frameworks. Another commenter recommended revising subpart (a) to include parents.

Discussion: We appreciate the commenters' points on aligning with school accountability frameworks and involving parents. Adding references to school accountability could focus the priority on K-12 education as school accountability is part of ESEA Title I, and these priorities are for all discretionary grants including those focused on postsecondary education. Family involvement is included in several subparts throughout the priority where we think their involvement is most applicable. As such, we decline to make these changes to keep the priority flexible.

Changes: None.

Comments: Several commenters articulated the connection between social and emotional well-being and academics, with some commenters stating that these skills are too often taught separately. One commenter highlighted that evidence supports that more explicitly pair social and emotional learning efforts with academic support can contribute to academic growth. Another commenter suggested specific additions to tie the connection between academics and social and emotional learning into a larger asset-based approach.

Discussion: We appreciate the commenters' arguments in favor of making the connection between social and emotional learning and academic support clear. We think that is best accomplished through the priority as written to enable the priority to be considered in a wider breadth of programs.

Changes: None.

Comments: Several commenters expressed support for the inclusion of partnerships in the priority. One commenter encouraged the Department to foster partnerships between educational institutions and mental health professionals, and another commenter noted the strong focus on community partners and trusting relationships. Another commenter noted that, in immigrant communities, there can be a level of fear and distrust of government agencies. Another commenter recommended that school-community partnerships supplement existing services and involve collaboration between community providers and existing school personnel (e.g., school psychologists, counselors, social workers).

Discussion: We appreciate the support from these commenters and agree that partnerships are important to include in this priority. Building trust with communities is essential to having the partnerships achieve their intended outcomes. We agree that collaboration with existing school personnel is important and, to address each of the potential collaborators identified, are adding a definition for “educator” that includes the personnel identified by the commenter.

Changes: We are adding a definition of “educator” that includes the personnel identified by the commenter.

Comments: A commenter proposed adding language to subpart (b)(3) of Priority 4 that would include the diversity of stakeholders in engagement efforts to allow for meaningful representation in decision-making.

Discussion: We appreciate and agree with the commenter's point that engagement efforts should include individuals from diverse backgrounds who are representative of the community.

Changes: We are rephrasing subpart (b)(3) so that it reads, “Engaging students (including underserved students), educators, families, and community partners from diverse backgrounds and representative of the community as partners in school climate review and improvement efforts.”

Comments: Some commenters recommended revising subpart (b)(4) of Priority 4 to refer to applicants involving educators in decision-making, including in such areas as establishing school discipline procedures. One commenter recommended incentivizing the elimination of zero tolerance and exclusionary disciplinary practices while also prioritizing the development and implementation of culturally informed discipline policies. One commenter asked to add to Priority 4 a reference to specialized training for educators and administrators on school discipline, restorative practice, trauma-informed environments, and implicit bias. Another commenter recommended addressing in subpart (b)(4) how positive parent and family interaction with the schools can be helpful in addressing negative discipline styles. One commenter recommended applying this priority to the competitions within the CSP.

Discussion: We agree that educators should be involved in establishing disciplinary practices and that related training is important. We believe that it is important to advance culturally informed discipline practices as noted in the priority, which we expect would incentivize the reduction or elimination of zero tolerance policies and exclusionary practices. In response to the comment related to using this priority in the CSP program, if the Department chooses to use a supplemental priority, it also will decide whether the priority will be used as an absolute, competitive preference, or invitational priority in a grant competition. We also agree that positive parent and family interaction is valuable and believe that this is also addressed within Priority 1 and Priority 2.

Changes: We are revising subpart (b)(4) of Priority 4, by involving educators, students, and families, in decision-making about discipline procedures and providing training and resources to support educators.

Comments: Several supported the focus of subpart (b)(4) of Priority 4 on the disproportionate use of discipline towards students with disabilities, especially students of color with disabilities, and concerns that such students should not lose instructional time. One commenter emphasized the need to move away from discriminatory discipline policies toward evidence-based policies that create safe and inclusive environments.

Discussion: We appreciate the support of these commenters and agree with the importance of examining discipline policies.

Changes: None.

Comments: One commenter supported the Department's focus in subpart (b)(5) of Priority 4 on real-world, hands-on learning to address student needs, noting this approach will help students build technical and essential employability skills and social capital. Two other commenters proposed modifications to subpart (b)(5). One commenter suggested including family service learning in this subpart, noting the value of a multi-generational approach to addressing the needs of a community. Another commenter suggested that the Department provide incentives to connect work-based learning to career-focused instruction, along with other strategies, to increase college and career readiness.

Discussion: We agree that real-world, hands-on learning opportunities should be connected to instruction to bolster college and career readiness. While family service learning would be an appropriate strategy in some programs and communities, there may be situations where it is not practicable or aligned with program goals. Thus, we decline to make that change.

Changes: We have revised subpart (b)(5) of Priority 4 to clarify that real-world, hands-on learning opportunities should also be aligned with instruction.

Comments: One commenter expressed general support for subpart (d). Another commenter suggested adding “linguistically inclusive practices” in addition to trauma-informed practices within the subpart.

Discussion: In designing a grant competition, the Department may choose to use one or more subparts in a particular grant competition. Subpart (c)(3) refers to the diversity of evidence-based professional development and as linguistically inclusive practices were identified as an element of the diverse practices; we believe that it could be coupled with this subpart to have an effect similar to the commenter's suggestion.

Changes: None.

Comments: One commenter expressed support for subpart (f). Another commenter recommended adding “and accessible” after “physically healthy,” citing a U.S. Government Accountability Office (GAO) study related to school buildings and physical barriers to people with disabilities. The commenter urged the Department to include physical accessibility in improvements to school infrastructure. Another commenter suggested strengthening the various sections of this priority by recognizing the physical and mental health needs of young children.

Discussion: We agree with the commenter on the need to ensure that school buildings are accessible to persons with disabilities. The Department's regulations implementing, in compliance with the requirements of Section 504 of the Rehabilitation Act of 1973, which prohibits disability discrimination in federally assisted programs and activities, contain requirements applicable to the physical accessibility of facilities and the accessibility of recipients' programs or activities. Recipients of Federal funds from the Department are required to comply with these regulations, which ensure that persons with disabilities are not discriminated against because a recipient's facilities are inaccessible to or unusable by persons with disabilities. In addition to Section 504's requirements, the Department of Justice regulations implementing Title II of the Americans with Disabilities Act prohibit disability discrimination by State and local governmental entities (Title II) regardless of their receipt of Federal funds. The Title II ADA regulations also contain accessibility requirements to ensure nondiscrimination. The Department's Office for Civil Rights enforces Section 504 and, in the education context, shares in the enforcement of Title II with the Department of Justice to ensure accessibility and equal opportunity for individuals with disabilities. We believe that the needs of young children are addressed through the inclusion of early learning settings in this priority, so a change is not needed.

Changes: None.

Comments: Some commenters expressed general support for subpart (g) with one noting that, as schools reopen, the capacity to address students' mental and emotional well-being is imperative. Another commenter urged the Department to indicate that the services provided must be linguistically and culturally responsive. Another commenter suggested explicitly using the terms “school social worker,” “school psychologist,” and “school counselors” and “other school-based mental health service professionals” as defined in ESEA. Another commenter expressed appreciation for the inclusion of the language “social workers, psychologists, counselors, nurses, or mental health professionals and other integrated services and supports, which may include in early learning environments,” and requested the inclusion of the full range of specialized instructional support personnel in supporting students' social and emotional learning.

Discussion: We agree with adding that services provided should be inclusive, including but not limited to linguistic and cultural inclusivity. We also agree that school-based mental health service professionals and specialized instructional support personnel are important partners in providing these services and believe that the language of the priority is flexible enough to incorporate their work in settings where they are working with students. We decline to be more specific in this subpart so as not to unintentionally exclude services from the priority settings that are not based in an elementary or secondary school.

Changes: We have revised subpart (g) of Priority 4 to state that services provided should be inclusive with regard to race, ethnicity, culture, language, and disability status.

Comments: One commenter suggested that work-based learning be included in subpart (h) of Priority 4, as it is an impactful form of experiential learning that allows learners to acquire hands-on skills and view firsthand what occurs in the professional setting of their interest.

Discussion: We agree with the commenter regarding the value of work-based learning and think that experiential learning includes work-based learning. Therefore, we decline to specifically add work-based learning to the subpart.

Changes: None.

Comments: One commenter recommended adding adult learning to subpart (j) of Priority 4 and another commenter urged the Department to include language to explain that services provided should be comprehensive, and linguistically and culturally responsive.

Discussion: We agree with the recommended additions of adult education and inclusivity to fostering partnerships with multiple entities.

Changes: We have added “adult learning providers” to the list of types of organizations that provide services under subpart (j). In addition, we have revised this subpart to include approaches that are inclusive with regard to race, ethnicity, culture, language, and disability status.

Priority 5—Increasing Postsecondary Education Access, Affordability, Completion, and Post-Enrollment Success

Comments: Several commenters expressed their support for Priority 5. Two commenters expressed appreciation for the focus on transfer pathways while another commenter appreciated the focus on creating student-centered flexible systems of support. Another commenter supported the priority and noted that it could be used in competitions to help students access comprehensive educator preparation programs, and another commenter who supported this priority noted that it could be relevant to programs that support the early childhood workforce. One commenter expressed support for the Department's inclusion of adult learners in Priority 5. Two commenters applauded the priority's focus on establishing partnerships with HBCUs, TCUs, MSIs and community colleges. Three commenters expressed support for the priority and recommended that the Department consider using this priority in specific competitions, including the Education Innovation and Research program as well as in programs administered by the Office of Career, Technical, and Adult Education. Two commenters strongly supported subparts (i) and (j) of the priority, with one commenter expressing support for subpart (j) for its focus on evidence-based strategies and further suggested that the Department define “evidence-based strategies” to include strategies that meet the promising evidence definition from the ESEA as well as strategies based on research that use random assignment or quasi-experimental research methods.

Discussion: We appreciate the support for this priority and agree with the commenters about the importance of including each of these topic areas within Priority 5. Although we do not set priorities for specific competitions in this notice, we appreciate hearing feedback from commenters regarding alignment between these priorities and particular programs. We also agree that it is important to emphasize the use of evidence-based practices throughout Department grant programs. The term “evidence-based” is defined consistent with the definitions of the term in 34 CFR 77.1 and section 8101(21) of the ESEA (depending on the authorization of the program that uses the term) and includes strategies based on promising evidence as well as research that meets higher evidence standards such as moderate evidence and strong evidence. Strategies that align with the demonstrates a rationale definition also align with the evidence-based definition, so we decline to specify a particular level of evidence in the priority.

Changes: None.

Comments: One commenter made several suggestions that they think would improve Priority 5, including partnering with students, providing guidance on creating student-centered, individualized plans for college readiness, ensuring best practices and resources are allocated towards marginalized students, and establishing partnerships with the private sector to promote career and mentorship opportunities. Another commenter noted the priority's alignment to the purpose of the Federal TRIO programs. The commenter also expressed support for the goal of a diverse educator workforce and suggested the TRIO-Student Support Services program, with its focus area on teacher preparation, could serve as a helpful lever for achieving this goal.

Discussion: We thank the commenter for their suggestions and agree that these are helpful points of emphasis. However, we believe that they are already broadly addressed within the priority through the descriptions in each subpart of Priority 5 of project design for traditionally underserved students. As stated previously, the Department does not set priorities for any particular grant program through this notice, but appreciates the commenter's perspective on opportunities for applying them.

Changes: None.

Comments: One commenter suggested adding a new subpart to the priority that would support the development and implementation of comprehensive transition and postsecondary programs for students with intellectual disabilities to promote these programs that were authorized in the 2008 reauthorization of the Higher Education Act of 1965, as amended (HEA).

Discussion: We thank the commenter for highlighting the needs of this important population of students and agree with the concern that Priority 5 could be more inclusive of postsecondary students with intellectual disabilities which, in turn, could assist these students in accessing services provided through a wider range of Department grant programs.

Changes: We have added subpart (l) to Priority 5 to support the development and implementation of comprehensive transition and postsecondary programs for students with intellectual disabilities under the HEA.

Comments: One commenter recommended adding language to Priority 5 to note that the project's goal should be to help increase employability and access to quality jobs that provide a living wage, strong workplace standards, and work-family supports.

Discussion: We share the commenter's perspective on the importance of these goals. We agree that increasing employability and access to quality jobs are priorities that we consider within a broader category of post-graduate outcomes.

Changes: We have added “and post-college outcomes” to subpart (d) after “completion”.

Comments: One commenter suggested that the Department add an additional priority area to encourage applicants to conduct equity audits, which are internal reviews of policies and practices to identify those that fail to effectively serve underrepresented students. The commenter expressed that these audits can address a range of issues such as admissions and financial aid, counseling services on campus, instructor diversity, and accessibility for students with disabilities to inform reforms.

Discussion: We appreciate the commenters' suggestions. We recognize that equity audits are one important strategy to promote equity and do not want to limit the field's approaches. However, we do not think it is appropriate to add an additional priority as the Department has monitoring protocols to ensure that applicants that receive awards comply with the requirements of the competition. Those requirements vary across program offices, but grant recipients must comply with them. We believe these requirements would address many of the concerns raised by the commenter.

Changes: None.

Comments: One commenter suggested adding the term “evidence-based” to subparts (b), (c), and (h) of Priority 5 to encourage applicants to propose to implement evidence-based strategies in these areas.

Discussion: We agree with this commenter on the importance of promoting the use of evidence-based practices to promote postsecondary student outcomes. We also note that in any competition, the Department already has the authority to combine any of these priority subparts with a particular evidence standard established in 34 CFR 75.226. This flexibility allows the Department to tailor the evidence required to individual programs, as appropriate.

Changes: None.

Comments: One commenter expressed particular concern that Priority 5 does not mention the word “parent” or “family,” noting that many youth and young adults in post-secondary programs are still supported by their parents and families. The commenter suggested revising the priority to include a focus on helping parents to support their youth/young adults in accessing and completing higher education.

Discussion: We agree with the notion that many students rely on the support of their families as they progress into and through their postsecondary programs. We note that none of the language in this priority would preclude applicants from proposing projects that support parents of postsecondary students if providing such support is allowable in a specific Department grant program.

Changes: None.

Comments: One commenter expressed the desire to add a new subpart to Priority 5 related to providing secondary students access to career exploration and/or career advisement so that they are aware of postsecondary opportunities aligned with their academic and career goals, and the steps and supports necessary for that college and career path.

Discussion: We thank the commenter and agree that using evidence-based approaches to assist students with career exploration prior to college matriculation can be essential to putting students on a career pathway. Although we note that final subpart (f) includes a focus on career services, we agree with the commenter that a targeted subpart focusing on providing secondary students with career exploration and advisement opportunities is a valuable addition to these priorities.

Change: We have revised Priority 5 by adding a new subpart (m) that to prioritize projects that provide secondary school students with access to career exploration and advising opportunities to help them make informed decisions about their postsecondary enrollment and place them on a career path.

Comments: One commenter urged the Department to include language within this priority that acknowledges the large share of adult learners who face challenges such as low and very low levels of formal education, limited English proficiency, high rates of poverty, and employment in low-skilled jobs. The commenter recommended that they receive equitable access to adult education services that are responsive to their needs.

Discussion: We appreciate the recommendation by the commenter and agree that many adult learners face challenges. We have addressed those challenges by focusing on adult learners in final subpart (f). Therefore, we think that the inclusion of additional language would be redundant.

Changes: None.

Comments: One commenter supported the Department's commitment to accessible and affordable higher education but recommended that the Department modify Priority 5 to include support for efforts to lower barriers to obtaining graduate education, particularly for fields experiencing critical shortages, such as school psychology.

Discussion: We appreciate the comment, but we do not think a separate focus on assisting students in attaining graduate degrees is necessary. The Department's Office of Postsecondary Education administers a number of programs that are specifically designed to support students in pursuing graduate education, such as: The TRIO-Ronald E. McNair Postbaccalaureate Program, which is designed to provide assistance to help low-income and first generation college students pursue doctoral degrees; the Graduate Assistance in Areas of National Need program, which provides grants to assist students in pursuing graduate degrees in specific areas of national need; the Doctoral Dissertation Research Abroad program, which provides funding to support individual doctoral students to conduct research abroad in modern foreign languages and area studies; as well as various programs authorized by titles III and V of the HEA that are designed to expand the capacity of HBCUs, TCUs, and MSIs to offer graduate education opportunities.

Changes: None.

Comments: One commenter suggested the Department put a greater emphasis on establishing partnerships through Priority 5 to effectively smooth transitions for students and reduce barriers. The commenter highlighted issues around delivery of early college credit and reducing the need for developmental education as examples. Another commenter suggested that the Department include specific references to early college credit and recommended that we emphasize the importance of developing college and career pathways systems.

Discussion: We thank the commenter for highlighting the importance of, and role of Department grant programs in, establishing partnerships to bridge divides in the educational landscape, including partnerships between secondary and postsecondary schools, as well as partnerships across postsecondary institutions. We believe final subpart (a) of Priority 5 creates clearer pathways for students between institutions by making transfer of course credits more seamless and transparent. We also think proposed subpart (a) of Priority 5 (which became final subpart (b) of Priority 2), which encourage partnerships involving HBCUs, TCUs, and MSIs, as well as Priority 6, which provides the Department with the ability to require or encourage partnerships across Department competitions, address this concern. Regarding the comment about early college credit, we believe that final subpart (h) would allow for the inclusion of such a program.

Changes: None.

Comments: One commenter recommended adding adult education programs as a fifth category of prioritized institutions in proposed subpart (a) of Priority 5; another commenter suggested adding career and technical education schools as an additional category of prioritized institutions.

Discussion: We appreciate the commenters' recommendations and have included both categories in what was subpart(a) of Priority 5 in the NPP. To ensure better application of this subpart, we have moved it to subpart (b) in Priority 2 in this NFP.

Changes: We have included adult education and career and technical education in Priority 5 subpart (b).

Comments: One commenter suggested that instead of focusing on underserved students at community colleges, HBCUs, TCUs, and MSIs, the Department should instead focus on addressing inequities at well-resourced and highly selective colleges and universities. The commenter further suggested that this priority would further encourage well-resourced institutions to continue recruiting wealthier, high-achieving white students and noted concern regarding low enrollment rates of underserved students at well-resourced institutions.

Discussion: We think that enrollment rates of students from low-income backgrounds are too low across the board, and we agree that there is much work to be done to increase racial and economic diversity in postsecondary education, including at well-resourced and highly selective institutions. We note that multiple subparts within this priority are focused on increasing the number of underserved students who succeed in postsecondary education, regardless of the type of institution. For example, final subpart (b) would give priority to applicants that propose to increase the number and proportion of underserved students who enroll in and complete postsecondary education programs, regardless of whether the institution is well-resourced or under-resourced. The Department also recognizes, however, that HBCUs, TCUs, MSIs and community colleges educate a disproportionate number of underserved students, and as a result, any effort to improve postsecondary outcomes for underserved students must include targeted support to these institutions. We have moved references to targeting support to these institutions, including through establishing partnerships with well-resourced institutions and other organizations, to subpart (b) in Priority 2.

Changes: None.

Comments: One commenter expressed general support for subpart (c) of Priority 5.

Discussion: We appreciate the support for the subpart.

Changes: None.

Comments: One commenter expressed support for the inclusion of “Post-enrollment Success” in the title of Priority 5, but this commenter suggested modifications to highlight career readiness throughout the priority. Specifically, regarding subpart (e), this commenter suggested adding post-graduate outcomes to the list of student outcomes. The commenter suggested several ways the Department could define post-graduate outcomes, such as graduate school matriculation, as well as several metrics that could be used to characterize a strong first job.

Discussion: We appreciate the recommendations and think that post-enrollment broadly includes any point on a student's trajectory. We agree that there are many ways to define post-graduate outcomes and that adding post-graduate outcomes would be beneficial to add to the range of data identified as post-enrollment outcomes. Including these data would allow a more coherent sense of what is meant by success than simply ending with graduation.

Changes: We have added post-college outcomes to the subpart, which is now designated as subpart (d).

Comments: One commenter strongly supported proposed subpart (e).

Discussion: We appreciate the support for the proposed subpart, which is now final subpart (d). We agree that a system of high-quality data will benefit students.

Changes: None.

Comments: One commenter suggested requiring alignment of data-related efforts to statewide goals (e.g., for postsecondary attainment) with a focus on measuring equity gaps and identifying strategies for ongoing monitoring and accountability.

Discussion: We appreciate the commenter's suggestion and note that there are current data collections from other areas within the Department that focus on equity gaps. Additionally, the Department is required to monitor grantees and do so in a myriad of ways; therefore, we will not be adding this language to the priorities.

Changes: None.

Comments: One commenter emphasized the importance of ensuring that undergraduate students have access to coursework and activities that prepare them for the workforce. This commenter further noted the importance of providing high-quality career preparation to undergraduate students across all majors and programs of study. This commenter suggested that the Department add “Credit-bearing academic undergraduate courses focused on career,” after “career services” in proposed subpart (f) of Priority 5.

Discussion: We appreciate the recommendation of the commenter and agree that there is a need for undergraduate students to have access to coursework and activities that prepare them for the workforce. We included structured/guided pathways within the priority to ensure that guardrails are provided for students and agree that the inclusion of the recommended language would be helpful to ensure that students were not just given guardrails, but also taking necessary classes within their major to avoid spending unnecessary time and money.

Changes: We have revised proposed subpart (f) to include “credit-bearing academic undergraduate courses focused on career” after “career services” in what is now final subpart (e).

Comments: One commenter suggested connecting efforts around integrated approaches with college and career pathway system development, including guided pathways and career and technical education and bridge programming that can accelerate students in subpart (f) of Priority 5.

Discussion: We appreciate the commenters' suggestions and agree that creating clear connections is beneficial to students. We believe that these connections are already included in the priority.

Changes: None.

Comments: One commenter recommended that the Department revise proposed subpart (g) (now final subpart (f)), which focuses on increasing the number of individuals who return to the educational system, to specifically recognize those individuals who return to the educational system to gain English language skills and/or to integrate into society.

Discussion: We appreciate and agree with this comment and recognize the unique challenges for English learners who return to the educational system.

Changes: In an effort to increase the number of English learners who return to the educational system to gain English language skills, we have added English language learning in subpart (f) of Priority 5.

Comments: One commenter expressed support for proposed subpart (h). This commenter appreciated that the language provides applicants flexibility to integrate multiple approaches to supporting learners.

Discussion: We appreciate the support for the proposed subpart, which is now subpart (g) in this NFP, and agree that multiple approaches to delivering instruction to students are necessary, depending on the context. We also agree that Priority 5 affords applicants the flexibility to combine multiple approaches to best support students.

Changes: None.

Comments: One commenter expressed support for the inclusion of work-based learning in proposed subpart (h) (now final subpart (g)) of Priority 5, stating that work-based learning is essential to creating an equitable and racially just economic recovery. The commenter also suggested that work-based learning must be year-round and layered into all levels of education. This commenter suggested adding a new subpart focused on building community capacity to develop or strengthen effective career readiness programs by supporting cross-system collaborative partnerships composed of leaders from education, workforce, government, social services, philanthropy, and the private sector to provide work-based learning opportunities and high-quality college and career pathways.

Discussion: We appreciate the commenter's support for the inclusion of work-based learning and agree that partnerships are important components of this work; however, we address cross-agency and entity partnerships in Priority 6 and work-based learning in Priority 2, which may be used in combination with this priority, so no changes are needed.

Changes: None.

Comments: One commenter recommended the Department implement career and technical education models that are grounded in labor market information and aligned from secondary through postsecondary education.

Discussion: We appreciate the recommendation and believe that proposed subparts (i) and (j) (now final subparts (h) and (i)), which focus on the use of evidence-based strategies, would ensure that current and proven models would be used that could include labor market information but is not restricted to that data source. Therefore, we have not included this additional language.

Changes: None.

Comments: One commenter supports the focus in proposed subpart (k) (now final subpart (j)) of Priority 5 on the transitional phase from high school to adulthood, especially the subpart that would prioritize applications that connect students and adults with disabilities with transition services under the Vocational Rehabilitation program or the IDEA.

Discussion: We appreciate the support for subpart (j) and agree with the importance of the inclusion of transition services under the Vocational Rehabilitation program and the IDEA.

Changes: None.

Comments: One commenter recommended adding language to subpart (j) of Priority 5 that expressly supports full participation and inclusion in postsecondary institutions, pre-apprenticeship programs, apprenticeships, and other workforce training. The commenter cited the need for additional attention for such programs to become consistent pathways to employment for individuals with disabilities. Another commenter suggested modifying subpart (j) to include language that extends eligibility for services for students with disabilities nearing age 22. The commenter noted the need to extend eligibility of individuals for these services given the learning loss due to COVID-19. Multiple commenters also referred the Department to comments made by another commenter to broaden this priority to ensure it is inclusive of all students with disabilities.

Discussion: We appreciate the commenter's recommendations and agree that it is important to ensure that the transition of services fully encompasses the intended outcomes and recipients. We agree that education outcomes are relevant, and that inclusion of that edit strengthens the subpart. Under Part B of the IDEA, a free appropriate public education (FAPE) must be made available to all children with disabilities residing in the State within the State's mandated age range for the provision of FAPE. Entitlement to FAPE begins at a child's third birthday and could last until the child's 22nd birthday, depending on State law or practice, which would render the second requested edit redundant.

Changes: We are adding “or education” after “employment outcomes” in final subpart (j).

Priority 6—Strengthening Cross-Agency Coordination and Community Engagement To Advance Systemic Change

Comments: Many commenters expressed general support for Priority 6 and its emphasis on interagency collaboration. Commenters noted this priority acknowledges that schools are frequently the center of the community for students and families, and that strong family and community engagement is associated with improved student outcomes.

Discussion: We appreciate the support for the priority and agree with these comments on the central role school's play.

Changes: None.

Comments: Several commenters expressed support for using this priority in different ways. One commenter advocated for making this a foundational priority across all grants. Another commenter recommended the Department prioritize partnerships that align with guidance developed by the Institute for Educational Leadership, the Coalition for Community Schools, and the National Association of School Psychologists.

Discussion: We appreciate these comments and note that several components of this priority are aligned with the community school's model. If the Department chooses to use the supplemental priorities, it also has discretion to decide how the priorities should be used in the grant competitions.

Changes: None.

Comments: One commenter suggested facilitating cross-agency budgeting and resourcing to ensure basic educational needs are being met.

Discussion: We appreciate this comment and recognize the importance of examining budgeting. We think the priority as written allows for this inter-agency budgeting and resourcing.

Changes: None.

Comments: One commenter expressed support for Priority 6 and suggested modifying the language to explicitly include philanthropy and the private sector more generally.

Discussion: We appreciate the commenter's focus on philanthropy and the private sector. We believe that community engagement can include philanthropy and the private sector, and subpart (c) focuses on partnerships that include an array of partners, including local nonprofit organizations, businesses, and philanthropic organizations. As such, we do not think any changes to the priority are necessary.

Changes: None.

Comments: One commenter suggested adding afterschool and summer programs to the list of needs to address included in subpart (a) of Priority 6.

Discussion: We believe that some specific services provided through afterschool and summer programs could be addressed through the activities already included on this list, including key field-initiated focus areas. In addition, afterschool and summer programs are included in other priorities, which could be used in combination with this one in a particular grant competition.

Changes: None.

Comments: One commenter suggested adding legal services to the list of issues to address through the coordinated efforts among Federal, State, or local agencies, or community-based organizations that support students under subpart (a), as these are often a key area of need for diverse groups of underserved students.

Discussion: We appreciate this comment. However, we think these services may already be within the scope of this priority as well as grant programs administered by other Federal agencies.

Change: None.

Comments: Several commenters recommended adding mental health or clarifying that health includes mental health.

Discussion: The Department appreciates the point made by these commenters and agrees with the important addition of mental health.

Changes: We are revising subpart (a)(7) to read: “Health, including physical health, mental health, and behavioral health and trauma.”

Comments: A commenter suggested specifying that school diversity includes student and educator diversity.

Discussion: We agree that this specificity around diversity is helpful.

Changes: We are adding “including student and educator diversity” to subpart (a)(9).

Comments: One commenter expressed support for the inclusion of workforce development in subpart (a)(11). This commenter further indicated that workforce development should be interpreted to include career preparation for undergraduate students at four-year institutions. Another commenter suggested revising this subpart to refer to college readiness, workforce development and civic life.

Discussion: We appreciate the recommendations as we agree that each of these areas of college and career readiness is critical, and especially agree that referring to college readiness and civic engagement would be beneficial towards the goal of advancing systemic change. Workforce development is already included in this subpart.

Changes: We have revised subpart (a)(11) through (13) to also include college readiness and civic engagement.

Comments: Two commenters recommended that the Department add a new subpart allowing use of funds for infrastructure, citing a June 2020 report from the Government Accountability Office ¹ saying that 54% of schools have major systems that need replacing.

¹ https://www.gao.gov/products/gao-20-494.

Discussion: We agree with the importance of investing in school infrastructure. Issues related to healthy learning environments are emphasized in subpart (f) of Priority 4.

Changes: None.

Comments: One commenter recommended changing subpart (a)(16) to Adult Education and Literacy and moving content in subpart (a)(16) to (a)(17).

Discussion: We will renumber to ensure alignment.

Changes: We have adjusted the numbering of the subpart to include adult education and literacy in (a)(19).

Comments: One commenter expressed support for the inclusion of nonprofit organizations in subpart (c). This commenter noted that because nonprofits are nimble, they can be invaluable partners in Department of Education grants.

Discussion: We agree that nonprofit organizations can be very valuable partners and note that they may be included within the subpart as currently written.

Changes: None.

Comments: One commenter who expressed support for this priority overall, articulated particular support for subpart (d). The commenter urged the Department to use this priority in future competitions of the CSP National Dissemination grant. The commenter went on to say that this priority could support accessibility and equity issues in both the National Dissemination and State Entities grant programs.

Discussion: We appreciate the commenter's suggestion on how the funds should be used. These priorities are intended as a menu of options for our discretionary grant programs. The Department may choose which, if any, of the priorities or subparts are appropriate for a particular program competition, as well as the appropriate level of funding and selection criteria. If the Department chooses to use a supplemental priority, it will decide whether the priority will be used as an absolute, competitive preference, or invitational priority in a grant competition, as well as the appropriate level of funding and selection criteria, which may include peer-to-peer learning models.

Changes: None.

Definitions

Comments: One commenter supported, in general, the clarity that the definitions offer.

Discussion: We appreciate the support for the definitions and think that they will ensure clarity in the use of the priorities.

Changes: None.

Comments: Multiple commenters recommended adding a definition of “technology,” including their own proposed definitions that were intended to help ensure aligning with Federal laws.

Discussion: While we appreciate all the commenters' suggestions, we recognize that the definition of technology is continually changing and therefore could create an obsolete definition upon programmatic use. Lastly, the NPP already included the following language to ensure compliance with Federal laws: “Additionally, regarding each technology reference, all technology developed or used under these proposed priorities must be accessible to English learners, in addition to individuals with disabilities . . .”

Changes: None.

Comments: One commenter requested that we include a definition of identity-safe learning environments.

Discussion: While we appreciate the commenter's suggestions, we recognize that the definition of identity-safe is parallel to language within priorities (2)(a)(2)(v) and(4)(b) and (c) that specifically speaks to supporting teachers in creating safe, healthy, inclusive, and productive classroom environments.

Changes: None.

Comments: One commenter proposed definitions of “competency-based” and “high-quality systems of assessments.”

Discussion: We thank the commenter and have already included a definition of “competency-based education,” which includes mastery of knowledge and skills, and a definition for “high-quality systems of assessments.”

Changes: None.

Comments: One commenter asked that we include definitions of “social and emotional learning,” and another commenter noted that social and emotional learning remains under-defined in Federal law and policy and that it should be more explicitly defined.

Discussion: We appreciate the request, and we recognize that the definition of social and emotional learning is continually changing and therefore could create an obsolete definition upon programmatic use.

Changes: None.

Comments: One commenter requested that the definitions of “career and technical education,” “work-based learning,” and “area career and technical education school” be included in the final definitions.

Discussion: These are definitions that are included in the Workforce Innovation and Opportunity Act (WIOA) for programs authorized by that statute, and therefore would not need to be included within these priorities.

Changes: None.

Comments: One commenter recommended definitions for “learning model” and “whole-learner approaches.”

Discussion: We appreciate the recommendations from the commenter and note that these terms are not used within the priorities and therefore do not need to be defined.

Changes: None.

Comments: One commenter asked the Department to add the following language to the definition of children or students with disabilities: “And which includes children or students with the most significant cognitive disabilities” to explicitly identify this subgroup of students with disabilities.

Discussion: We appreciate the commenters' focus on children or students with the most significant cognitive disabilities. However, we are not changing the definitions used in this NFP because they are the definitions of a “child with a disability” and “student with a disability” in section 602(3) of IDEA and its implementing regulations at 34 CFR 300.8 and section 7(37) of the Rehabilitation Act of 1973 and 34 CFR 361.5(c)(51) of the Vocational Rehabilitation program regulations, respectively.

Changes: None.

Comments: One commenter encouraged the Department to expand the definition of “competency-based education” by incorporating seven components that are student focused.

Discussion: The definition of competency-based education as currently written is in alignment with other Department rules, and as such, we are not making any changes to the definition.

Changes: None.

Comments: Instead of just early learning, one commenter recommended defining “high quality early learning.”

Discussion: The current definition of “early learning” includes a variety of early learning settings, and the quality piece of the early learning is established by the regulator for the early learning program.

Changes: None.

Comments: One commenter suggested using, as a definition, the term “Emergent Bilingual or Multilingual Learner” instead of “English Learner” to emphasize language as a valuable skill rather than a limit.

Discussion: The Department wholeheartedly agrees with an asset-minded approach to language learners and will adopt such an approach where appropriate and when concepts are not tied to a specific term in a governing statute or regulation. The term English learner is defined in both the ESEA and the WIOA, which govern many of our grant programs. Therefore, we did not make changes to the definition of English learner.

Changes: None.

Comments: One commenter had strong support for the definition of “evidence-based.”

Discussion: We appreciate the support for the definition and think that it will ensure clarity in the use of the priorities.

Changes: None.

Comments: One commenter expressed support for a definition of the term “high-quality assessment.”

Discussion: We appreciate the support for the definition and think that it will ensure clarity in the use of the priorities.

Changes: None.

Comments: One commenter recommended edits to the definition of “high-quality assessment” so that assessments are part of a comprehensive assessment plan.

Discussion: We appreciate the commenter's suggestions and agree that a comprehensive assessment plan benefits students by adding more clarity around the expectation of high-quality assessment systems. For this reason, we have modified the definition to broaden the scope of high-quality assessment.

Changes: We are making edits to the definition of high-quality assessment to include “interim” as part of the assessments, and that policymakers support students at the student, classroom, school, and system levels.

Comments: One commenter recommended adding the term “interim” to the list of high-quality assessments to ensure the definition is comprehensive and properly represents the field. The commenter highlighted that interim assessments can measure growth and provide information throughout a school year and that interim assessment results are comparable across classrooms and schools, so they can help districts and State leaders direct resources to where they are needed most. This same commenter recommended adding language to the definition describing the importance of the purpose when defining the assessment and how the assessment will be used.

Discussion: We thank the commenters for the suggestions and appreciate the recommendations and will include “interim” in the definition, in addition to “formative”, as they serve distinct purposes. Regarding the important use of the data from the assessments, we agree that there is a broader use that goes beyond the school and community. For this reason, we have modified the definition to strengthen the definition of high-quality assessment.

Changes: We have revised the definition for high-quality assessments by adding interim assessments to not only help parents, educators and caregivers, but to also help policymakers support students at the student, classroom, school and system levels.

Comments: One commenter appreciated the inclusion of children and students with disabilities in the definition of underserved student. Another commenter expressed support for this definition, in particular the focus on student caregivers. One commenter supported the specificity of the definition to help States and communities to be explicit about what equitable education systems include and how they serve students from the lived experiences described in the priority. The commenter noted the inclusion of adults and student parents, and “a student performing significantly below grade level(s),” stating that inclusion of the latter acknowledges the role and responsibility of the system. One commenter appreciated the expansive and inclusive definition of underserved student. One commenter strongly supported the Department's inclusion of (LGBTQI+) students; students of color; students who are members of Tribal communities; and students with disabilities.

Discussion: We thank the commenters for their overall support for the definition and appreciate that the inclusions to the definition are comprehensive and relevant.

Changes: None

Comments: One commenter asked that military- or veteran-connected students be added to the definition of underserved student.

Discussion: We appreciate the commenter's suggestion. We agree with the recommendation to include the military- and veteran-connected student and had already included it as a separate definition but will also include it within the definition of underserved student as we believe that this is a group of students that has been underserved.

Changes: We have added military and veteran connected student to the category list of underserved students.

Comments: Three commenters recommended that the Department add students residing in Puerto Rico as additional definitions to the list.

Discussion: We do not believe it is appropriate to target any particular State or territory as funding from the Department's discretionary grant programs may generally be used within any of the 50 States, the District of Columbia, the Commonwealth of Puerto Rico, Outlying Areas, and the tribal nations. We appreciate the second comment on adding a proposed subpart, and we agree that proximate involvement will help to identify community needs. We appreciate the commenter's desire to include language specific to Puerto Rico.

Change: None.

Comments: One commenter asked that “questioning” be added to (i) (LGBTQI+) under the definition of underserved student.

Discussion: We appreciate the comment and agree that questioning is an important part of the acronym.

Changes: We have added “questioning” as a part of the definition of underserved student.

Comments: One commenter requested that the Department add unconnected students to the definition of underserved student, which includes students who do not have access to their own individual device or high-quality internet at home.

Discussion: We appreciate the commenter's request and agree that there is a utility in including this group of students in the definition as the pandemic showed that students without access to the internet were unable to participate in learning.

Changes: We have updated the definition of “underserved student” to include technologically unconnected youth.

Comments: One commenter emphasized the importance of career readiness and encouraging projects focused on post-graduate outcomes and proposed a program that set undergraduates onto a path of strong economic opportunity.

Discussion: We agree that college and career readiness is important, and programs should have outcomes that set students onto a path of strong economic opportunity that could be through either a strong first job or matriculation into graduate school. We think that there is a clear emphasis on college and career readiness incorporated into the priorities and we do not reference specific programs within the priorities.

Changes: None.

Final Priorities

The Secretary establishes the following priorities for use in any Department discretionary grant program.

Priority 1—Addressing the Impact of COVID-19 on Students, Educators, and Faculty

Projects that are designed to address the impacts of the COVID-19 pandemic, including impacts that extend beyond the duration of the pandemic itself, on the students most impacted by the pandemic, with a focus on underserved students and the educators who serve them, through one or more of the following priority areas:

(a) Conducting community asset-mapping and needs assessments that may include an assessment of the extent to which students, including subgroups of students, have become disengaged from learning, including students not participating in in-person or remote instruction, and specific strategies for reengaging and supporting students and their families.

(b) Providing resources and supports to meet the basic, fundamental, health and safety needs of students and educators.

(c) Addressing students' social, emotional, mental health, and academic needs through approaches that are inclusive with regard to race, ethnicity, culture, language, and disability status.

(d) Addressing educator, faculty, and staff well-being.

(e) Providing students and educators with access to reliable high-speed broadband and devices; providing students with access to high-quality, technology-supported learning experiences and ensuring these experiences are accessible to, interoperable, and usable by children or students with disabilities,² educators with disabilities, and English learners; and providing educators with access to job-embedded, sustained, and collaborative professional development, to support the effective use of technology.

² In an NIA, the Department could use either “children with disabilities” or “students with disabilities,” depending on which term is more appropriate for the program. In this document, we use these terms interchangeably.

(f) Using technology to enable evidence-based approaches to personalized student learning as well as evidence-based supplemental activities that extend learning time, such as comprehensive afterschool and summer learning and enrichment programs, and increase student and, where appropriate, parent engagement.

(g) Using evidence-based instructional approaches and supports, such as professional development, coaching, ongoing support for educators, high quality tutoring, expanded access to rigorous coursework and content across K-12, and expanded learning time to accelerate learning for students in ways that ensure all students have the opportunity to successfully meet challenging academic content standards without contributing to tracking or remedial courses.

(h) Using evidence-based instructional approaches or supports to assist individuals who did not enroll in, withdrew from, or reduced course loads in postsecondary education or training programs due to COVID-19 to enroll in, remain enrolled in, and complete credit-bearing coursework and earn recognized postsecondary credentials.

Priority 2—Promoting Equity in Student Access to Educational Resources and Opportunities

Under this priority, an applicant must demonstrate one or both of the following:

(a) The applicant proposes a project designed to promote educational equity and adequacy in resources and opportunity for underserved students—

(1) In one or more of the following educational settings:

(i) Early learning programs.

(ii) Elementary school.

(iii) Middle school.

(iv) High school.

(v) Career and technical education programs.

(vi) Out-of-school-time settings.

(vii) Alternative schools and programs.

(viii) Juvenile justice system or correctional facilities.

(ix) Adult learning;

(2) That examines the sources of inequity and inadequacy and implement responses, and that may include one or more of the following:

(i) Rigorous, engaging, and well-rounded (e.g., that include music and the arts) approaches to learning that are inclusive with regard to race, ethnicity, culture, language, and disability status and prepare students for college, career, and civic life, including one or more of the following:

(A) Student-centered learning models that may leverage technology to address learner variability (e.g., universal design for learning (as defined in this notice), K-12 competency-based education (as defined in this notice), project-based learning, or hybrid/blended learning) and provide high-quality learning content, applications, or tools.

(B) Middle school courses or projects that prepare students to participate in advanced coursework in high school.

(C) Advanced courses and programs, including dual enrollment and early college programs.

(D) Project-based and experiential learning, including service and work-based learning.

(E) High-quality career and technical education courses, pathways, and industry-recognized credentials that are integrated into the curriculum.

(F) Science, technology, engineering, and mathematics (STEM), including computer science coursework.

(G) Civics programs that support students in understanding and engaging in American democratic practices.

(ii) Increasing the number and proportion of experienced, fully certified, in-field, and effective educators, and educators from traditionally underrepresented backgrounds or the communities they serve, to ensure that underserved students have educators from those backgrounds and communities and are not taught at disproportionately higher rates by uncertified, out-of-field, and novice teachers compared to their peers.³

³ All strategies to increase racial diversity of educators must comply with applicable law, including Title VI of the Civil Rights Act of 1964.

(iii) Improving the preparation, recruitment, and early career support and development of educators in shortage areas or hard to staff schools.

(iv) Improving the retention of fully certified, experienced, and effective educators in high-need schools or shortage areas.

(v) Pedagogical practices in educator preparation programs and professional development programs that are inclusive with regard to race, ethnicity, culture, language, and disability status so that educators are better prepared to create inclusive, supportive, equitable, unbiased, and identity-safe learning environments for their students.

(vi) Using technology to enable evidence-based approaches to personalized student learning in the classroom or support supplemental activities that extend learning time and increase student and, where appropriate, parent engagement.

(vii) Creating more equitable and adequate approaches to school funding, by doing one or more of the following:

(A) Aligning funding levels to students' diverse needs; or

(B) Sufficiently accounting for districts' differential access to local revenue given differences in local wealth and income levels.

(viii) Expanding access to high-quality early learning, including in school-based and community-based settings, by removing barriers through implementation of programs that are inclusive with regard to race, ethnicity, culture, language, and disability status.

(ix) Establishing, expanding, or improving learning environments for multilingual learners, and increasing public awareness about the benefits of fluency in more than one language and how the coordination of language development in the school and the home improves student outcomes for multilingual learners.

(x) Establishing, expanding, or improving the engagement of underserved community members (including underserved students and families) in informing and making decisions that influence policy and practice at the school, district, or State level by elevating their voices, through their participation and their perspectives and providing them with access to opportunities for leadership (e.g., establishing partnerships between civic student government programs and parent and caregiver leadership initiatives).

(xi) Improving the quality of educational programs in juvenile justice facilities (such as detention facilities and secure and non-secure placements) or adult correctional facilities.

(xii) Supporting re-entry of, and improving long-term outcomes for, youth and adults after release from juvenile justice system or correctional facilities by linking youth and adults to appropriate support, education, vocational rehabilitation, or workforce training programs.

(xiii) Increasing student racial or socioeconomic diversity, through one or more of the following:

(A) Using high-quality data collection methods to identify racial and socioeconomic stratification, trends in and contributors to stratification, and barriers to racial, ethnic, and socioeconomic diversity.

(B) Developing or implementing evidence-based policies or strategies that include one or more of the following:

(1) Ongoing, robust family and community involvement.

(2) Intra- or inter-district or regional coordination.

(3) Cross-agency collaboration, such as with housing or transportation authorities.

(4) Alignment with an existing public diversity plan that is evidence-based and designed to effectively promote diversity.

(5) School assignment or admissions policies that are designed to promote socioeconomic diversity and provide equitable access to educational opportunities for students from low-income backgrounds or students residing in neighborhoods experiencing concentrated poverty.

(C) Establishing or expanding schools, or programs within schools, that are designed to attract, and foster meaningful interactions among, substantial numbers of students from different racial and/or socioeconomic backgrounds, such as magnet schools.

(D) Developing evidence related to, or providing technical assistance on, evidence-based policies or strategies designed to increase inclusivity with regard to race, ethnicity, culture, language, and disability status.

(b) The project will be implemented by or in partnership with one or more of the following entities:

(1) Community colleges (as defined in this notice).

(2) Historically Black colleges and universities (as defined in this notice).

(3) Tribal Colleges and Universities (as defined in this notice).

(4) Minority-serving institutions (as defined in this notice).

(5) Career and technical education centers.

(6) Adult education.

Priority 3—Supporting a Diverse Educator Workforce and Professional Growth To Strengthen Student Learning

Projects that are designed to increase the proportion of well-prepared, diverse, and effective educators serving students, with a focus on underserved students, through one or more of the following priority areas:

(a) Increasing the number of diverse educator candidates who have access to an evidence-based comprehensive educator preparation program.

(b) Increasing the number of teachers with certification or dual certification in a shortage area, or advanced certifications from nationally recognized professional organizations.

(c) Identifying and addressing disparities among educator subgroups in graduation rates, passage rates for certification and licensure exams, successful employment, retention, and professional growth.

(d) Promoting knowledge of universal design for learning in educator preparation.

(e) Integrating universal design for learning principles in pedagogical practices and classroom features, such as instructional techniques, classroom materials and resources, and classroom seating.

(f) Implementing or expanding loan forgiveness or service-scholarship programs for educators based on completing service obligation requirements.

(g) Building or expanding high-poverty school (as may be defined in the program statute or regulations) districts' capacity to hire, support, and retain an effective and diverse educator workforce, through one or more of the following:

(1) Providing beginning educators with evidence-based mentoring or induction programs.

(2) Adopting or expanding comprehensive, strategic career and compensation systems that provide competitive compensation and include opportunities for educators to serve as mentors and instructional coaches, or to take on additional leadership roles and responsibilities for which educators are compensated.

(3) Developing data systems, timelines, and action plans for promoting inclusive and bias-free human resources practices that promote and support development of educator diversity.

(4) Providing opportunities for educators to be involved in the design and implementation of local and district wide initiatives that advance systemic changes.

(h) Supporting effective instruction and building educator capacity through one or more of the following:

(1) Providing high-quality job-embedded professional development opportunities focused on one or more of the following:

(i) Designing and delivering instruction in ways that are engaging, effectively integrate technology, and provide students with opportunities to think critically and solve complex problems, apply their learning in authentic and real-world settings, communicate and collaborate effectively, and develop academic mindsets, including through project-based, work-based, or other experiential learning opportunities.

(ii) Supporting students and their families at key transitional stages in their education as they enter into one or more of the following:

(A) Early learning programs.

(B) Elementary school.

(C) Middle school.

(D) High school.

(E) Postsecondary education.

(F) Career and technical education.

(G) Work.

(iii) Meeting the needs of English learners.

(iv) Meeting the needs of children or students with disabilities, including children or students with the most significant cognitive disabilities.

(v) Addressing inequities and developing and implementing pedagogical practices that are inclusive with regard to race, ethnicity, culture, language, and disability status.

(vi) Building meaningful and trusting relationships with students' families to support in-home, community-based, and in-school learning.

(vii) For school leaders, improving mastery of essential instructional and organizational leadership skills designed to improve teacher and student learning.

(viii) Supporting teachers in creating safe, healthy, inclusive, and productive classroom environments.

(2) Developing and implementing high-quality assessments (as defined in this notice) of student learning (for example, curriculum-aligned and performance-based tools aligned with State grade-level content standards or, for career and technical education, relevant industry standards) and strategies that allow educators to use the data from assessments to inform instructional design and classroom practices that meet the needs of all students and providing high-quality professional development to support educators in implementing these strategies.

(i) Increasing educator capacity to collaborate with diverse stakeholders to carry out rapid cycle evaluation, design-based research, improvement science, or other rapid cycle techniques to design, develop, or improve promising innovations that are designed to benefit underserved students.

Priority 4—Meeting Student Social, Emotional, and Academic Needs

Projects that are designed to improve students' social, emotional, academic, and career development, with a focus on underserved students, through one or more of the following priority areas:

(a) Developing and supporting educator and school capacity to support social and emotional learning and development that—

(1) Fosters skills and behaviors that enable academic progress;

(2) Identifies and addresses conditions in the learning environment, that may negatively impact social and emotional well-being for underserved students, including conditions that affect physical safety; and

(3) Is trauma-informed, such as addressing exposure to community-based violence and trauma specific to military- or veteran-connected students (as defined in this notice).

(b) Creating education or work-based settings that are supportive, positive, identity-safe and inclusive with regard to race, ethnicity, culture, language, and disability status, through one or more of the following activities:

(1) Developing trusting relationships between students (including underserved students), educators, families, and community partners.

(2) Providing high-quality professional development opportunities designed to increase engagement and belonging and build asset-based mindsets for educators working in and throughout schools.

(3) Engaging students (including underserved students), educators, families, and community partners from diverse backgrounds and representative of the community as partners in school climate review and improvement efforts.

(4) Developing and implementing inclusive and culturally informed discipline policies and addressing disparities in school discipline policy by identifying and addressing the root causes of those disparities, including by involving educators, students, and families in decision-making about discipline procedures and providing training and resources to educators.

(5) Supporting students to engage in real-world, hands-on learning that is aligned with classroom instruction and takes place in community-based settings, such as apprenticeships, pre-apprenticeships, work-based learning, and service learning, and in civic activities, that allow students to apply their knowledge and skills, strengthen their employability skills, and access career exploration opportunities.

(c) Creating a positive, inclusive, and identity-safe climate at institutions of higher education through one or more of the following activities:

(1) Fostering a sense of belonging and inclusion for underserved students.

(2) Implementing evidence-based practices for advancing student success for underserved students.

(3) Providing evidence-based professional development opportunities designed to build asset-based mindsets for faculty and staff on campus and that are inclusive with regard to race, ethnicity, culture, language, and disability status.

(4) Updating the institution's harassment policies and procedures consistent with applicable Federal law to ensure they apply to harassment that occurs in the institution's educational programs and activities, including during hybrid and distance education.

(d) Providing multi-tiered systems of supports that address learning barriers both in and out of the classroom, that enable healthy development and respond to students' needs and which may include evidence-based trauma-informed practices and professional development for educators on avoiding deficit-based approaches.

(e) Developing or implementing policies and practices, consistent with applicable Federal law, that prevent or reduce significant disproportionality on the basis of race or ethnicity with respect to the identification, placement, and disciplining of children or students with disabilities.

(f) Providing all students access to physically healthy learning environments, such as energy-efficient spaces, for one or more of the following:

(1) Early learning environments.

(2) Elementary or secondary schools.

(3) Out-of-school time learning spaces.

(4) Postsecondary institutions.

(5) Career and technical education.

(6) Adult education learning environments.

(g) Providing students equitable access that is inclusive, with regard to race, LGBTQI+, ethnicity, culture, language, and disability status, to social workers, psychologists, counselors, nurses, or mental health professionals and other integrated services and supports, which may include in early learning environments.

(h) Preparing educators to implement project-based or experiential learning opportunities for students to strengthen their metacognitive skills, self-direction, self-efficacy, competency, or motivation, including through instruction that: Connects to students' prior knowledge and experience; provides rich, engaging, complex, and motivating tasks; and offers opportunities for collaborative learning.

(i) Creating and implementing comprehensive schoolwide frameworks (such as small schools or learning communities, advisory systems, or looping educators) that support strong and consistent student and educator relationships.

(j) Fostering partnerships, including across government agencies (e.g., housing, human services, employment agencies), local educational agencies, community-based organizations, adult learning providers, and postsecondary education intuitions, to provide comprehensive services to students and families that support students' social, emotional, mental health, and academic needs, and that are inclusive with regard to race, ethnicity, culture, language, and disability status.

Priority 5—Increasing Postsecondary Education Access, Affordability, Completion, and Post-Enrollment Success

Projects that are designed to increase postsecondary access, affordability, completion, and success for underserved students by addressing one or more of the following priority areas:

(a) Increasing postsecondary education access and reducing the cost of college by creating clearer pathways for students between institutions and making transfer of course credits more seamless and transparent.

(b) Increasing the number and proportion of underserved students who enroll in and complete postsecondary education programs, which may include strategies related to college preparation, awareness, application, selection, advising, counseling, and enrollment.

(c) Reducing the net price or debt-to-earnings ratio for underserved students who enroll in or complete college, other postsecondary education, or career and technical education programs.

(d) Establishing a system of high-quality data collection and analysis, such as data on persistence, retention, completion, and post-college outcomes, for transparency, accountability, and institutional improvement.

(e) Supporting the development and implementation of student success programs that integrate multiple comprehensive and evidence-based services or initiatives, such as academic advising, structured/guided pathways, career services, credit-bearing academic undergraduate courses focused on career, and programs to meet basic needs, such as housing, childcare and transportation, student financial aid, and access to technological devices.

(f) Increasing the number of individuals who return to the educational system and obtain a regular high school diploma, or its recognized equivalent for adult learners; enroll in and complete community college, college, or career and technical training; or obtain basic and academic skills, including English language learning, that they need to succeed in college—including community college—as well as career and technical education and/or the workforce.

(g) Supporting the development and implementation of high-quality and accessible learning opportunities, including learning opportunities that are accelerated or hybrid online; credit-bearing; work-based; and flexible for working students.

(h) Supporting evidence-based practices in career and technical education and ensuring equitable access to and successful completion of high-quality programs, credentials, or degrees.

(i) Supporting the development and implementation of evidence-based strategies to promote students' development of knowledge and skills necessary for success in the workforce and civic life.

(j) Connecting children or students with disabilities, adults with disabilities, and disconnected youth to resources designed to improve independent living and the achievement of employment outcomes or education, which may include the provision of pre-employment transition services, transition and other vocational rehabilitation services under the Vocational Rehabilitation program, and transition and related services under IDEA, as appropriate.

(k) Providing students access to international education, education in cultural and global competencies, and foreign language training in preparation for global competitiveness.

(l) Supporting the development and implementation of comprehensive transition and postsecondary programs for students with intellectual disabilities (as defined in section 760 of the Higher Education Act of 1965, as amended (HEA)).

(m) Providing secondary school students with access to career exploration and advising opportunities to help students make informed decisions about their postsecondary enrollment decisions and to place them on a career path.

Priority 6—Strengthening Cross-Agency Coordination and Community Engagement To Advance Systemic Change

Projects that are designed to take a systemic evidence-based approach to improving outcomes for underserved students in one or more of the following priority areas:

(a) Coordinating efforts with Federal, State, or local agencies, or community-based organizations, that support students, to address one or more of the following:

(1) Food assistance.

(2) Energy.

(3) Climate change.

(4) Housing.

(5) Homelessness.

(6) Transportation.

(7) Health, including physical health, mental health, and behavioral health and trauma.

(8) Child care.

(9) School diversity, including student and educator diversity.

(10) Justice policy.

(11) College readiness.

(12) Workforce development.

(13) Civic engagement.

(14) Technology.

(15) Public safety.

(16) Community violence prevention and intervention.

(17) Social services.

(18) Voting access and registration.

(19) Adult education and literacy.

(20) Another key field-initiated focus area.

(b) Conducting community needs and asset mapping to identify existing programs and initiatives that can be leveraged, and new programs and initiatives that need to be developed and implemented, to advance systemic change.

(c) Establishing cross-agency partnerships, or community-based partnerships with local nonprofit organizations, businesses, philanthropic organizations, or others, to meet family well-being needs.

(d) Identifying, documenting, and disseminating policies, strategies, and best practices on effective approaches to creating systemic change through cross-agency or community-based coordination and collaboration.

(e) Expanding or improving parent and family engagement.

Types of Priorities:

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority we are particularly interested in applications that meet the priority. However, we do not give an application that meets the priority a preference over other applications (34 CFR 75.105(c)(1)).

Final Definitions

The Secretary establishes the following definitions for use in any Department discretionary grant program in which the final priorities are used. In any discretionary grant program competition in which the definition of “underserved students” is used, the Secretary may use the entire definition or one or more of the subparts of the definition that are most relevant for the grant program competition.

Children or students with disabilities means children with disabilities as defined in section 602(3) of the Individuals with Disabilities Education Act (IDEA) (20 U.S.C. 1401(3)) and 34 CFR 300.8, or students with disabilities, as defined in the Rehabilitation Act of 1973 (29 U.S.C. 705(37), 705(202) (B)).

Community college means “junior or community college” as defined in section 312(f) of the Higher Education Act of 1965, as amended (HEA).

Competency-based education (also called proficiency-based or mastery-based learning) means learning based on knowledge and skills that are transparent and measurable. Progression is based on demonstrated mastery of what students are expected to know (knowledge) and be able to do (skills), rather than seat time or age.

Disconnected youth means an individual, between the ages 14 and 24, who may be from a low-income background, experiences homelessness, is in foster care, is involved in the justice system, or is not working or not enrolled in (or at risk of dropping out of) an educational institution.

Early learning means any (a) State-licensed or State-regulated program or provider, regardless of setting or funding source, that provides early care and education for children from birth to kindergarten entry, including, but not limited to, any program operated by a child care center or in a family child care home; (b) program funded by the Federal Government or State or local educational agencies (including any IDEA-funded program); (c) Early Head Start and Head Start program; (d) non-relative child care provider who is not otherwise regulated by the State and who regularly cares for two or more unrelated children for a fee in a provider setting; and (e) other program that may deliver early learning and development services in a child's home, such as the Maternal, Infant, and Early Childhood Home Visiting Program; Early Head Start; and Part C of IDEA.

Educator means an individual who is an early learning educator, teacher, principal or other school leader, specialized instructional support personnel (e.g., school psychologist, counselor, school social worker, early intervention service personnel), paraprofessional, or faculty.

English learner means an individual who is an English learner as defined in section 8101(20) of the Elementary and Secondary Education Act of 1965, as amended, or an individual who is an English language learner as defined in section 203(7) of the Workforce Innovation and Opportunity Act.

Evidence-based has the meaning ascribed to it in 34 CFR 77.1 or the ESEA, as applicable.

High-quality assessments mean diagnostic, formative, interim, or summative assessments that are valid and reliable for the purposes for which they are used and that provide relevant and timely information to help educators, parents or caregivers, and policymakers support students at the student, classroom, school, and system levels.

Historically Black colleges and universities means colleges and universities that meet the criteria set out in 34 CFR 608.2.

Military- or veteran-connected student means one or more of the following:

(a) A child participating in an early learning program, a student enrolled in preschool through grade 12, or a student enrolled in career and technical education or postsecondary education who has a parent or guardian who is a member of the uniformed services (as defined by 37 U.S.C. 101), in the Army, Navy, Air Force, Marine Corps, Coast Guard, Space Force, National Guard, Reserves, National Oceanic and Atmospheric Administration, or Public Health Service or is a veteran of the uniformed services with an honorable discharge (as defined by 38 U.S.C. 3311).

(b) A student who is a member of the uniformed services, a veteran of the uniformed services, or the spouse of a service member or veteran.

(c) A child participating in an early learning program, a student enrolled in preschool through grade 12, or a student enrolled in career and technical education or postsecondary education who has a parent or guardian who is a veteran of the uniformed services (as defined by 37 U.S.C. 101).

Minority-serving institution means an institution that is eligible to receive assistance under sections 316 through 320 of part A of title III, under part B of title III, or under title V of the HEA.

Tribal College or University has the meaning ascribed it in section 316(b)(3) of the HEA.

Underserved student means a student (which may include children in early learning environments, students in K-12 programs, students in postsecondary education or career and technical education, and adult learners, as appropriate) in one or more of the following subgroups:

(a) A student who is living in poverty or is served by schools with high concentrations of students living in poverty.

(b) A student of color.

(c) A student who is a member of a federally recognized Indian Tribe.

(d) An English learner.

(e) A child or student with a disability.

(f) A disconnected youth.

(g) A technologically unconnected youth.

(h) A migrant student.

(i) A student experiencing homelessness or housing insecurity.

(j) A lesbian, gay, bisexual, transgender, queer or questioning, or intersex (LGBTQI+) student.

(k) A student who is in foster care.

(l) A student without documentation of immigration status.

(m) A pregnant, parenting, or caregiving student.

(n) A student impacted by the justice system, including a formerly incarcerated student.

(o) A student who is the first in their family to attend postsecondary education.

(p) A student enrolling in or seeking to enroll in postsecondary education for the first time at the age of 20 or older.

(q) A student who is working full-time while enrolled in postsecondary education.

(r) A student who is enrolled in or is seeking to enroll in postsecondary education who is eligible for a Pell Grant.

(s) An adult student in need of improving their basic skills or an adult student with limited English proficiency.

(t) A student performing significantly below grade level.

(u) A military- or veteran- connected student.

Universal design for learning has the meaning ascribed it in section 103(24) of the HEA.

Executive Orders 12866 and 13563

Regulatory Impact Analysis

Under Executive Order 12866, the Office of Management and Budget (OMB) must determine whether this regulatory action is “significant” and, therefore, subject to the requirements of the Executive order and subject to review by OMB. Section 3(f) of Executive Order 12866 defines a “significant regulatory action” as an action likely to result in a rule that may—

(1) Have an annual effect on the economy of $100 million or more, or adversely affect a sector of the economy, productivity, competition, jobs, the environment, public health or safety, or State, local, or Tribal governments or communities in a material way (also referred to as an “economically significant” rule);

(2) Create serious inconsistency or otherwise interfere with an action taken or planned by another agency;

(3) Materially alter the budgetary impacts of entitlement grants, user fees, or loan programs or the rights and obligations of recipients thereof; or

(4) Raise novel legal or policy issues arising out of legal mandates, the President's priorities, or the principles stated in the Executive order.

This final regulatory action is a significant regulatory action subject to review by OMB under section 3(f) of Executive Order 12866.

We have also reviewed this proposed regulatory action under Executive Order 13563, which supplements and explicitly reaffirms the principles, structures, and definitions governing regulatory review established in Executive Order 12866. To the extent permitted by law, Executive Order 13563 requires that an agency—

(1) Propose or adopt regulations only on a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that maximize net benefits (including potential economic, environmental, public health and safety, and other advantages; distributive impacts; and equity);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” The Office of Information and Regulatory Affairs of OMB has emphasized that these techniques may include “identifying changing future compliance costs that might result from technological innovation or anticipated behavioral changes.”

We are issuing these final priorities and definitions only on a reasoned determination that their benefits would justify their costs. In choosing among alternative regulatory approaches, we selected those approaches that would maximize net benefits. Based on an analysis of anticipated costs and benefits, we believe that these final priorities and definitions are consistent with the principles in Executive Order 13563.

We also have determined that this regulatory action does not unduly interfere with State, local, and Tribal governments in the exercise of their governmental functions.

In accordance with these Executive orders, the Department has assessed the potential costs and benefits, both quantitative and qualitative, of this regulatory action. The potential costs are those resulting from statutory requirements and those we have determined as necessary for administering the Department's programs and activities.

Potential Costs and Benefits

The final priorities and definitions will impose minimal costs on entities that receive assistance through the Department's discretionary grant programs. Additionally, the benefits of implementing the final priorities and definitions outweigh any associated costs because it will result in the Department's discretionary grant programs encouraging the submission of a greater number of high-quality applications and supporting activities that reflect the Administration's educational priorities.

Application submission and participation in a discretionary grant program are voluntary. The Secretary believes that the costs imposed on applicants by the final priorities and definitions will be limited to paperwork burden related to preparing an application for a discretionary grant program that is using a priority in its competition. Because the costs of carrying out activities will be paid for with program funds, the costs of implementation will not be a burden for any eligible applicants, including small entities.

Regulatory Flexibility Act Certification

The Secretary certifies that this final regulatory action will not have a significant economic impact on a substantial number of small entities. The U.S. Small Business Administration Size Standards define proprietary institutions as small businesses if they are independently owned and operated, are not dominant in their field of operation, and have total annual revenue below $7,000,000. Nonprofit institutions are defined as small entities if they are independently owned and operated and not dominant in their field of operation. Public institutions are defined as small organizations if they are operated by a government overseeing a population below 50,000.

The small entities that this final regulatory action will affect are early learning providers, school districts, institutions of higher education, nonprofit organizations, and for-profit organizations. Of the impacts we estimate accruing to grantees or eligible entities, all are voluntary and related mostly to an increase in the number of applications prepared and submitted annually for competitive grant competitions. Therefore, we do not believe that the final priorities and definitions will significantly impact small entities beyond the potential for increasing the likelihood of their applying for, and receiving, competitive grants from the Department.

Paperwork Reduction Act

The final priorities and definitions do not contain any information collection requirements.

Intergovernmental Review: This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Accessible Format: On request to the program contact person listed under FOR FURTHER INFORMATION CONTACT, individuals with disabilities can obtain this document in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of the Department published in the Federal Register, in text or Portable Document Format (PDF). To use PDF, you must have Adobe Acrobat Reader, which is available free at the site.

You may also access documents of the Department published in the Federal Register by using the article search feature at www.federalregister.gov. Specifically, through the advanced search feature at this site, you can limit your search to documents published by the Department.

Miguel A. Cardona,
Secretary of Education.

[FR Doc. 2021-26615 Filed 12-9-21; 8:45 am]

BILLING CODE 4000-01-P